DEPARTMENT OF TRANSPORTATION

National Highway Traffic Safety Administration

[Docket No. NHTSA-2015-0055]

Third Amendment to the Coordinated Remedy Order With Annex A; Coordinated Remedy Program Proceeding

AGENCY: National Highway Traffic Safety Administration (NHTSA), Department of Transportation (DOT).

ACTION: Third Amendment to the Coordinated Remedy Order.

DATES: Effective date: This Third Amendment to the Coordinated Remedy Order went into effect on November 9, 2016.

Order: This Amendment to the Coordinated Remedy Order (“Amendment”) is issued by the Administrator of the National Highway Traffic Safety Administration (“NHTSA”), an operating administration of the U.S. Department of Transportation. Pursuant to NHTSA's authority under the National Traffic and Motor Vehicle Safety Act of 1966, as amended and recodified (the “Safety Act”), 49 U.S.C. 30101, et seq., and specifically, 49 U.S.C. 30118-30120, 30120(a)(1), 30120(c)(2)-(3), 30166(b), 30166(c), 30166(e), 30166(g)(1), and 49 CFR 573.6, 573.14, this Amendment modifies the Coordinated Remedy Order issued on November 3, 2015 (“CRO”) to add newly affected vehicle manufacturers ¹ (the “Expansion Vehicle Manufacturers”) to the Coordinated Remedy Program and to set forth additional requirements and obligations of the affected vehicle manufacturers (the “Affected Vehicle Manufacturers”) ² and TK Holdings, Inc., (“Takata”) in connection with the recall and remedy of certain types of Takata air bag inflators. The CRO, including all facts, findings, terms, and prior amendments,³ is hereby incorporated by reference as if fully set forth herein.

¹ Including Ferrari North America, Inc. (“Ferrari”), Jaguar Land Rover North America, LLC (“Jaguar-Land Rover”), McLaren Automotive, Ltd. (“McLaren”), Mercedes-Benz U.S., LCC (“Mercedes-Benz”), Tesla Motors, Inc. (“Tesla”), Volkswagen Group of America, Inc. (“Volkswagen”), and, per Memorandum of Understanding dated September 16, 2016, Karma Automotive on behalf of certain Fisker vehicles (“Karma”).

² Including, in addition to the Expansion Vehicle Manufacturers, the previously included companies, or “Original Affected Manufacturers”: BMW of North America, LLC (“BMW”), FCA US, LLC (“FCA”) (formerly Chrysler), Daimler Trucks North America, LLC (“Daimler Trucks”), Daimler Vans USA, LLC (“Daimler Vans”), Ford Motor Company (“Ford”), General Motors, LLC (“GM”), American Honda Motor Company (“Honda”), Mazda North American Operations (“Mazda”), Mitsubishi Motors North America, Inc. (“Mitsubishi”), Nissan North America, Inc. (“Nissan”), Subaru of America, Inc. (“Subaru”), and Toyota Motor Engineering and Manufacturing (“Toyota”).

³ Amendments were issued granting extensions of time to BMW on March 15, 2016, and to GM, Daimler Vans, and Ford on September 29, 2016. These amendments are publicly available at: http://www.safercar.gov/rs/takata/takata-docs.html.

I. Nature of the Matter and Findings

1. On November 3, 2015, upon the conclusion of the Coordinated Remedy Program Proceeding and closing of public Docket Number NHTSA-2015-0055 (addressing the recalls of certain Takata air bag inflators), NHTSA issued a Consent Order to Takata on November 3, 2015 (“November 2015 Consent Order”) and the CRO. See Coordinated Remedy Order with Annex A, 80 FR 70866 (Nov. 16, 2015).

2. Since that time, NHTSA has continued its investigation into the Takata air bag inflator ruptures (EA15-001) and has been implementing and overseeing the Coordinated Remedy Program. As part of the ongoing investigation NHTSA has, among other things, received briefings from three independent research organizations,⁴ each of which had undertaken scientific evaluations of Takata's frontal air bag inflators containing non-desiccated phase-stabilized ammonium nitrate (“PSAN”). See Amendment to November 3, 2015 Consent Order, EA15-001 Air Bag Inflator Rupture (May 4, 2016) (“Amended Consent Order”). NHTSA staff evaluated the research and also consulted with the Agency's independent expert on the various researchers' findings. See id. (including Expert Report of Harold R. Blomquist, Ph.D. as Exhibit A). Based upon the scientific analyses and data obtained from the researchers and additional data from Takata, on May 4, 2016, NHTSA issued, with Takata's agreement, the Amended Consent Order, which, among other things, established a phased schedule for the future recall of all Takata frontal inflators containing non-desiccated PSAN by December 31, 2019.

⁴ Exponent, Inc., Fraunhofer ICT, and Orbital ATK.

3. The number of Takata air bag inflators currently recalled, or scheduled for recall, has increased since November 3, 2015, from approximately 23 million to approximately 61 million ⁵ and the number of affected vehicle manufacturers has grown from 12 to 19. The size of these recalls, ages of vehicles affected, nature of the defect, and associated communications and outreach challenges, as well as remedy part and alternative part supply challenges, lends unprecedented complexity to the recall and remedy process. Given the potential severity of the harm to vehicle occupants when an inflator rupture occurs and the wide-spread exposure across a large vehicle population, the ongoing risk of harm presented by the defective Takata air bag inflators is extraordinary. Accordingly, for the reasons that follow, and upon consideration of the entire record in this proceeding (including NHTSA's ongoing investigation in EA15-001, oversight of the Takata non-desiccated PSAN inflator recalls issued in May and June 2015 by the Original Affected Manufacturers (the “Inflator Recalls”) to date, and the Amended Consent Order) NHTSA now issues this Third Amendment to the Coordinated Remedy Order.

⁵ This number of inflators does not include like-for-like remedies.

Additional Factual Background

4. Following the issuance of the November 2015 Consent Order and the CRO, NHTSA continued its investigation into the rupturing Takata air bag inflators and began to implement the Coordinated Remedy Program.

5. In late 2015, Takata shared new inflator ballistic testing data with the Agency. That data included ruptures during testing of four (4) non-desiccated PSPI inflators and two (2) non-desiccated PSPI-L inflators (both of which are passenger side air bag inflators). Based on the new ballistic testing data, in December 2015, Takata amended DIRs 15E-042 (for the PSPI-L) and 15E-043 (for the PSPI) to include inflators through model year 2008, and the impacted vehicle manufacturers ⁶ expanded their existing recalls to all vehicles with those inflator types through model year 2008.

⁶ Honda, Mazda, and Subaru.

6. Meanwhile, in the fall of 2015, Takata began ballistic testing and analysis of certain non-desiccated PSDI-5 driver air bag inflators returned from the field. In January 2016, Takata notified the Agency that of 961 returned non-desiccated PSDI-5 inflators subjected to testing, three (3) had ruptured during testing and an additional five (5) had shown elevated internal pressure levels during testing deployment, but did not rupture during testing.

7. In January 2016, the Agency learned that on December 22, 2015, the driver of a 2006 Ford Ranger was killed in a crash in Lancaster County, South Carolina, when the non-desiccated SDI inflator in his air bag ruptured during deployment. While this vehicle was under recall for the passenger side air bag inflator, the driver side air bag inflator had not been recalled because no ruptures had occurred during previous ballistic testing. That ballistic testing was conducted as part of a proactive surveillance testing program that included 1,900 tests conducted on parts taken out of vehicles located in the high absolute humidity (“HAH”) region.

8. In light of the new ballistic test data showing ruptures in non-desiccated PSDI-5 inflators (see Paragraph 6),⁷ the December 22, 2015, fatality involving a non-desiccated SDI inflator (see Paragraph 7), and paragraph 29 of the November 2015 Consent Order, on January 25, 2016, Takata filed two DIRs, initiating the recall of non-desiccated PSDI-5 inflators (16E-005) from start of production through model year 2014, and initiating the recall of non-desiccated SDI inflators (16E-006) from the start of production through model year 2014. Thereafter, vehicle manufacturers impacted by these expansions subsequently filed corresponding DIRs, including Volkswagen and Mercedes-Benz, neither of which had previously been part of the Coordinated Remedy Program.

⁷ By the time Takata filed the DIR with the Agency on January 25, 2016, Takata reported four (4) ruptures and six (6) abnormally high internal pressurizations during ballistic testing on 1995 inflators returned from the field.

9. In February and March 2016, the Agency received briefings from Exponent, Inc., Fraunhofer ITC, and Orbital ATK, regarding their research into the root cause(s) of the inflator ruptures, including the conclusions each had drawn as of that time. The findings of all three research organizations were consistent with previous theories that most of the inflator ruptures are associated with a long-term phenomenon of PSAN propellant degradation caused by years of exposure to temperature fluctuations and intrusion of moisture from the ambient atmosphere into the inflator. See Amended Consent Order at ¶ 2. The temperature fluctuations and moisture intrusions are more severe in warmer climates with high absolute humidity. Id. Based upon the Agency's review of the work done by the research organizations, it concluded that the likely root cause of the rupturing of most ⁸ non-desiccated frontal Takata air bag inflators is a function of time, temperature cycling, and environmental moisture. Id. at ¶ 5. Other factors may influence the relative risk ⁹ of inflator rupture, but the overarching root cause of the ruptures consists of the three identified factors.

⁸ The findings are qualified as applicable to “most” non-desiccated PSAN frontal inflators made by Takata because some of the earliest rupture-related recalls additionally involved certain manufacturing defects that caused the inflators to rupture before the combined effects of time, temperature cycling, and humidity could have caused the degradation that leads to rupture.

⁹ Factors that may affect relative risk of inflator rupture and risk to vehicle occupants include, but are not limited to, vehicle size, position of the inflator in the vehicle (passenger, driver, or both), and manufacturing location.

10. Based on the Agency's root cause determination regarding the non-desiccated PSAN frontal inflators, on May 4, 2016, NHTSA issued, and Takata agreed to, the Amended Consent Order. The Amended Consent Order sets forth a phased schedule of five DIR filings by Takata between May 15, 2016 and December 31, 2019, that ultimately will recall all Takata frontal non-desiccated PSAN air bag inflators, including all “like-for-like” inflators used as remedy parts during the recalls.¹⁰ Vehicle manufacturers not previously affected by the Takata air bag inflator recalls are included under this DIR schedule, including: Ferrari, Jaguar-Land Rover, McLaren, Tesla, and, by agreement with the Agency, Karma (as to certain Fisker vehicles).

¹⁰ Like-for-like replacements are remedy parts that are the same as the part being removed, except that they are new production. These parts are an adequate interim remedy because the risk of inflator rupture develops over time. Thus, like-for-like remedy parts are safe at the time of installation and much safer than the older parts they replace, because the inflators present a lower risk of rupture since insufficient time has passed for the propellant degradation process to have occurred. Like-for-like parts are sometimes also referred to as an “interim remedy”.

11. Since issuing the CRO, the Agency has continued to monitor the availability of remedy parts supply through communications with Takata, other major inflator suppliers (the “Suppliers”),¹¹ and Affected Vehicle Manufacturers. At least one vehicle manufacturer has taken significant steps to ensure an adequate supply chain of replacement inflators going forward, including working with alternative suppliers to establish additional supply lines. However, some vehicle manufacturers struggled to find alternative suppliers with sufficient production capacity in a timely fashion, or to identify acceptable final remedy inflators (whether produced by Takata or another supplier). Further, some vehicle manufacturers that became involved in the Takata air bag inflator recalls relatively recently must find remedy parts production capacity in an already crowded marketplace. Additionally, developing and validating new remedy parts can add several months, or more, to the process. However, not all Suppliers are at maximum capacity for future production orders. Suppliers have some limited additional production capacity. Further, the Suppliers and Affected Vehicle Manufacturers have the ability, with time and capital investments, to develop additional supply capacity to address the significant parts demand not only for U.S. supply, but for the larger global supply that may well be required.

¹¹ Hereinafter, “Suppliers” shall collectively refer to Autoliv Americas, Daicel Safety Systems America, LLC, and ZF-TRW.

12. Significant efforts by the Affected Vehicle Manufacturers and Suppliers to ensure an adequate remedy parts supply will be required for the foreseeable future as these recalls continue to expand with the future scheduled DIRs for Takata frontal air bag inflators containing non-desiccated PSAN (hereafter, the combined current and future recalls of Takata non-desiccated PSAN air bag inflators are referred to as the “Expanded Inflator Recalls”), and the potential expansion by December 31, 2019, to Takata frontal inflators containing desiccated PSAN.¹²

¹² Paragraph 30 of the November 2015 Consent Order provides that the NHTSA Administrator may issue final orders for the recall of Takata's desiccated PSAN inflators if no root cause has been determined by Takata or any other credible source, or if Takata has not otherwise shown the safety and/or service life of the parts by December 31, 2019.

13. In addition to the ongoing investigation and recall expansions, the Agency is implementing the Coordinated Remedy Program. This included the selection in December 2015 of an Independent Monitor (hereafter, the Independent Monitor and/or his team are referred to as the “Monitor”) responsible for, among other things, data collection from the Affected Vehicle Manufacturers, Takata, and Suppliers, which allows for enhanced analysis on remedy parts supply, recall completion rates, and efforts being made by each affected manufacturer to successfully carry out its recall and remedy program. In addition to frequent direct communications with Takata and each of the Affected Vehicle Manufacturers, the Agency has extensive communications with the Monitor regarding new information, insights, and proposals for addressing challenges identified through the data analysis.

14. In consultation with NHTSA, the Monitor has engaged in extensive discussions with the Affected Vehicle Manufacturers and Takata, and also with the Suppliers. Among other things, the Monitor has conducted data analysis to identify high-risk communities needing improved repair rates; spearheaded targeted outreach into high-risk communities with data analysis of the effectiveness of those efforts; overseen marketing research, developed deep knowledge of affected vehicle manufacturers supply chains and dealer network business practices; and provided recommendations to the vehicle manufacturers subject to the CRO to improve processes, procedures, communications, and outreach to improve recall completion rates at each.

15. Numerous challenges have been identified by the Agency, or brought to the Agency's attention by the Monitor, regarding the recalls underway and varying levels of compliance with the CRO. One significant issue that has arisen is clear communication with the public on what is happening. Consumers are confused. Consumers should be readily able to determine what vehicles are affected (and when), what to do if a remedy part is not available, and whether they will need to get their vehicle repaired more than once. The challenge of providing the public with clear and accurate information (for NHTSA and the Affected Vehicle Manufacturers) is compounded when each vehicle manufacturer crafts a different message, often resulting in consumer confusion.

16. Another overarching challenge has been the term “sufficient supply” to launch a remedy campaign as set forth in paragraph 39 of the CRO. Some vehicle manufacturers have expressed uncertainty to NHTSA about what volume of supply is “sufficient” to launch a remedy campaign. Some vehicle manufacturers have also struggled to comply with the “sufficient supply” schedule set forth in paragraph 39 of the CRO, and some have provided inadequate and late communication to NTHSA regarding their inability to fully meet the “sufficient supply” schedule. Finally, some vehicle manufacturers have communicated to the Agency and the Monitor that they had adequate supply to launch, yet did not reflect that status in the data sent to the Vehicle Identification Number (“VIN”) Lookup Tool available through NHTSA's Web site, safercar.gov. If a manufacturer has sufficient parts to repair vehicles, it is inappropriate for the manufacturer to keep that information hidden from the anxiously awaiting public in need of those remedy parts.

17. In addition, several vehicle manufacturers submitted inadequate recall engagement processes or plans, required under paragraph 41 of the CRO, and have failed to take actions sufficient to effectuate full and timely remedy completion (i.e., limiting efforts to: Sending recall notices by mail, using phone calls and text messaging, providing customer data to dealers, evaluating technician training requirements, having some information available on their Web site, and updating the VIN lookup information available through safercar.gov, and completing biweekly recall completion updates to the Agency but with inconsistent accuracy of data). Such inadequate efforts were often accompanied by an unwillingness or inability to implement recommendations of the Monitor as to how to improve outreach efforts and remedy completion rates.

18. Other issues that have arisen in the Coordinated Remedy Program include: Reluctance by some vehicle manufacturers to provide timely customer notification of a recall, or of remedy part availability; inadequate effort by some vehicle manufacturers to motivate customers to get repairs done, i.e., to actually carry out and complete the remedy campaign; reluctance by some vehicle manufacturers to stop using Takata PSAN-based inflators without conducting adequate research to prove their safety, despite the potential for additional recalls of these very parts; some vehicle manufacturers' consumer communications indicating that the remedy is not important, or the recall is not serious; resistance by some vehicle manufacturers engaging in surveillance programs for Takata inflators that contain desiccated PSAN; and reluctance by certain vehicle manufacturers to cooperate with the Monitor, including reluctance to provide information requested by the Monitor in carrying out Monitor duties.

19. In addition to the above challenges to NHTSA's oversight of vehicle manufacturers under the existing Coordinated Remedy Program and the CRO, a change to the structure of the recall zones will present challenges going forward. In the original CRO issued in November 2015, vehicles were categorized into the HAH and non-HAH categories based upon the best available information at that time, which indicated that vehicles in the HAH region posed the greatest risk of rupture and thus the greatest risk of injury or death. Further testing and analysis done by Exponent, Inc. has now provided the Agency with a better understanding of the PSAN degradation process. The current, best available information shows that the HAH region should also include the states of South Carolina and California,¹³ and that the non-HAH region can be broken into two separate risk zones with the northern zone presenting the lowest risk of rupture in the near-term. The most recent recall expansions (filed in May and June 2016) categorized vehicles into these three zones—the HAH and two non-HAH zones ¹⁴—rather than the two HAH and non-HAH zones previously used. However, the previous recalls remain divided into the two-zone system.

¹³ The previously defined HAH region includes the following states and territories: Alabama, Florida, Georgia, Hawaii, Louisiana, Mississippi, Texas, Puerto Rico, American Samoa, Guam, the Northern Mariana Islands (Saipan), and the U.S. Virgin Islands. See Coordinated Remedy Order at ¶ 38 n.8 (Nov. 3, 2015).

¹⁴ The three zones—A, B, and C—are defined in paragraph 7 of the Amended Consent Order.

20. As of December 1, 2016, there have been 220 confirmed Takata inflator rupture incidents in the United States. Many of these incidents resulted in serious injury to vehicle occupants. In 11 of the incidents, the vehicle's driver died as a result of injuries sustained from the rupture of the air bag inflator. In other incidents, vehicle occupants suffered injuries including cuts or lacerations to the face or neck, broken or fractured facial bones, loss of eyesight, and broken teeth. The risk of these tragic consequences is greatest for individuals sitting in the driver seat.

Findings

Based upon the Agency's analysis and judgment, and upon consideration of the entire record, NHTSA finds that:

21. There continues to be a risk of serious injury or death if the remedy programs of the Affected Vehicle Manufacturers are not accelerated.

22. Acceleration of each Affected Vehicle Manufacturers' remedy program can be reasonably achieved by expanding the sources of replacement parts.

23. Each Affected Vehicle Manufacturers' remedy program will not likely be completed within a reasonable time without acceleration.

24. Each air bag inflator with the capacity to rupture (e.g., the recalled Takata non-desiccated PSAN inflators) presents an unreasonable risk of serious injury or death. As of December 1, 2016, 11 individuals have already been killed in the United States alone, with reports of at least 184 injured. Since the propensity for rupture is a function of time, humidity, and temperature cycling, the risk for injurious or lethal rupture in affected vehicles increases each day. While each of the Affected Vehicle Manufacturers has made effort towards the remedy of these defective air bag inflators, acceleration and coordination of the inflator remedy programs is necessary to reduce the risk to public safety. Acceleration and coordination (including the Expansion Vehicle Manufacturers) will enhance the ability of all of the Affected Vehicle Manufacturers to carry out remedy programs using established priorities based on relative risk; coordinate on safety-focused efforts to successfully complete their respective remedy programs; and allow for the organization and prioritization of remedy parts, if needed, with NHTSA's oversight.

25. Continued acceleration of the inflator remedy programs can be reasonably achieved by, among other things, expanding the sources of replacement parts. This acceleration can be accomplished in part by a vehicle manufacturer contracting with any appropriate alternative part supplier for remedy parts. Takata cannot manufacture sufficient remedy parts in a reasonable time for the estimated 61 million inflators that presently require remedy in the U.S. market alone under the recalls of Takata's frontal non-desiccated PSAN inflators.

26. In light of all the circumstances, including the safety risks discussed above, the Affected Vehicle Manufacturers' recall remedy programs are not likely capable of completion within a reasonable amount of time without acceleration of each remedy program. It is critical to the timely completion of each remedy program that the Affected Vehicle Manufacturers obtain remedy inflators from sources other than Takata. There is no single supplier capable of producing the volume of replacement inflators required, in a reasonable timeframe, to supply all of the remedy parts.

27. Based on the challenges identified thus far in implementing and carrying out the Coordinated Remedy Program, the Agency finds that clarification of terms of the CRO and additional CRO requirements are necessary to effectively monitor the Affected Vehicle Manufacturers' recall and remedy programs.

28. Further, based upon the recall completion information available to the Agency and the severity of the harm from inflator ruptures, notifications to vehicle owners sent by the Affected Vehicle Manufacturers do not result in an adequate number of vehicles being returned for the inflator remedy within an acceptable timeframe.

29. The issuance of this Third Amendment to the Coordinated Remedy Order is a necessary and appropriate exercise of NHTSA's authority under the Safety Act, 49 U.S.C. 30101, et seq., as delegated by the Secretary of Transportation, 49 CFR 1.95, 501.2(a)(1), to inspect and investigate, 49 U.S.C. 30166(b)(1); to ensure that defective vehicles and equipment are recalled and remedied and that owners are notified of a defect and how to have the defect remedied, 49 U.S.C. 30118-30120; to ensure the adequacy of the remedy, including through acceleration of the remedy program, 49 U.S.C. 30120(c); to require vehicle manufacturers and equipment manufacturers to keep records and make reports, 49 U.S.C. 30166(e); to require any person to file reports or answers to specific questions, 49 U.S.C. 30166(g); and to seek civil penalties, 49 U.S.C. 30165.

30. This Third Amendment to the Coordinated Remedy Order, developed based on all evidence, data, analysis, and other information received in the Coordinated Remedy Program Proceeding, NHTSA investigation EA15-001, the Amended Consent Order, and information learned in implementing and overseeing the Coordinated Remedy Program, will reduce the risk of serious injury or death to the motoring public and enable the affected vehicle manufacturers and Takata to implement, and complete, the necessary remedy programs on an accelerated basis.

Accordingly, it is hereby ordered by NHTSA as follows:

II. Additional Terms to the Coordinated Remedy Order

31. In addition to the Original Affected Manufacturers covered under the Coordinated Remedy Order issued November 3, 2015, the following vehicle manufacturers are hereby added to the Coordinated Remedy Program and, henceforth, are subject to the terms of the Coordinated Remedy Order and this Amendment: Ferrari North America, Inc., Jaguar Land Rover North America, LLC, McLaren Automotive, Ltd., Mercedes-Benz US, LCC, Tesla Motors, Inc., Volkswagen Group of America, Inc., and, based on a Memorandum of Understanding with the Agency, Karma Automotive.¹⁵

¹⁵ As to certain Fisker vehicles per the Memorandum of Understanding dated September 16, 2016.

32. Pursuant to 49 U.S.C. 30118, within 5 business days of Takata filing a DIR as set forth in the Amended Consent Order, each Affected Vehicle Manufacturer shall file with the Agency a corresponding DIR for the affected vehicles in that vehicle manufacturers' fleet. Takata DIRs are scheduled to be filed with the Agency on December 31 of the years 2016, 2017, 2018, and 2019. Where a DIR is scheduled to be filed on a weekend or federal holiday, that DIR shall instead be filed on the next business day that the federal government is open.

Amended Priority Groups and Recall Completion Deadlines for the Coordinated Remedy Program

33. The Agency has communicated with the Affected Vehicle Manufacturers regarding vehicle prioritization plans based on a risk-assessment that takes into account the primary factors related to Takata inflator rupture, as currently known and understood, and other relative risk factors specific to that vehicle manufacturer's products. The primary factors utilized in prioritizations remain the same as in the CRO and are: (1) Age of the inflator (with older presenting a greater risk of rupture); (2) geographic location of the inflator (with prolonged exposure to HAH presenting a greater risk of rupture); and (3) location of the Takata inflator in the vehicle (driver, passenger, or both). Prioritizations also take into account continuity of previous recall plans and priority groups. In order to timely and adequately complete its remedy program, each Affected Vehicle Manufacturer shall, pursuant to 49 U.S.C. 30120(a)(1) and (c), carry out its remedy program in accordance with the following prioritization plans unless otherwise authorized by the Agency. A complete listing of the vehicles in each priority group (“Priority Group”) developed using the above risk factors is attached hereto as Amended Annex A,¹⁶ and is hereby incorporated by reference as if fully set forth herein. The Priority Groups are as follows:

¹⁶ Because information about the risk factors may change throughout this Coordinated Remedy Program, these prioritizations are subject to change by a vehicle manufacturer, subject to NHTSA's oversight and approval.

a. Priority Group 1—Highest risk vehicles that were recalled May through December 2015.

b. Priority Group 2—Second highest risk vehicles that were recalled May through December 2015.

c. Priority Group 3—Third highest risk vehicles that were recalled May through December 2015.

d. Priority Group 4—Highest risk vehicles that were recalled January through June 2016 ¹⁷

¹⁷ Vehicles in Priority Groups 4 through 10 were not recalled in May of 2015 and thus were not part of the original prioritizations. Priority Group (“PG”) 4 and 5, in particular, should be considered comparable to PG 1 and 2 of the CRO in terms of urgency of the remedy.

e. Priority Group 5—Second highest risk vehicles that were recalled January through June 2016.

f. Priority Group 6—Third highest risk vehicles that were recalled January through June 2016.

g. Priority Group 7—Vehicles scheduled for recall by the Affected Vehicle Manufacturers ¹⁸ in January 2017 that have ever been registered in Zone A.¹⁹

¹⁸ Vehicles in Priority Groups 7 through 10 are defined as being recalled by Affected Vehicle Manufacturers in January of a given year to minimize confusion about which vehicles and DIRs are affected, because Takata will file DIRs by December 31 of the prior year, or on the first business day of the PG defined year when December 31 falls on a weekend or holiday.

¹⁹ Zone A includes the original HAH area plus the addition of the expansion states of California and South Carolina.

h. Priority Group 8—Vehicles scheduled for recall by the Affected Vehicle Manufacturers in January 2017 that have not ever been registered in the Zone A region during the service life of the vehicle.

i. Priority Group 9—Vehicles scheduled for recall by the Affected Vehicle Manufacturers in January 2018.

j. Priority Group 10—Vehicles scheduled for recall by the Affected Vehicle Manufacturers in January 2019.

k. Priority Group 11—Vehicles ever registered in the HAH or Zone A that were previously remedied with a “like for like” part ²⁰ under a recall initiated by an Affected Vehicle Manufacturer during calendar year 2015 or before.

²⁰ These parts are sometimes referred to as “interim parts”.

l. Priority Group 12—Vehicles previously remedied with a “like for like” part and are not covered in Priority Group 11.

34. Pursuant to their obligations to remedy a defect within a reasonable time, as set forth in 49 U.S.C. 30120(a)(1) and § 30120(c)(2), each Affected Vehicle Manufacturer shall acquire a sufficient supply of remedy parts to enable it to provide remedy parts, in a manner consistent with customary business practices, to dealers within their respective dealer networks and, further, to launch the remedy program, by the timelines set forth in this Paragraph. Each Vehicle Manufacturer shall ensure that it has a sufficient supply of remedy parts on the following schedule:

Priority Group | Sufficient Supply & Remedy Launch Deadlines
Priority Group 1 | March 31, 2016.
Priority Group 2 | September 30, 2016.
Priority Group 3 | December 31, 2016.
Priority Group 4 | March 31, 2017.
Priority Group 5 | June 30, 2017.
Priority Group 6 | September 30, 2017.
Priority Group 7 | December 31, 2017.
Priority Group 8 | March 31, 2018.
Priority Group 9 | June 30, 2018.
Priority Group 10 | March 31, 2019.
Priority Group 11 | March 31, 2020.
Priority Group 12 | September 30, 2020.

Further, to the maximum extent possible, each Affected Vehicle Manufacturer shall take those measures necessary to sustain its supply of remedy parts available to dealers so that dealers are able to continue remedying vehicles after remedy program launch without delay or disruption due to issues of sufficient supply. An Affected Vehicle Manufacturer may, after consultation with and approval from NHTSA, further accelerate the launch of a Priority Group to begin the recall remedy campaign at an earlier date, provided that the vehicle manufacturer has a sufficient supply available to do so without negatively affecting supply for earlier Priority Groups.

35. To more clearly specify the remedy completion progress required in accelerating the Expanded Inflator Recalls, pursuant to the Affected Vehicle Manufacturers obligations to remedy a defect within a reasonable time (as set forth in 49 U.S.C. 30120(a)(1) and § 30120(c)(2)-(3)) each Affected Vehicle Manufacturer shall implement and execute its recall remedy program in a manner and according to a schedule designed to achieve the following remedy completion percentages ²¹ at the following intervals:

²¹ The remedy completion timeline set forth in paragraph 35 does not apply to Priority Groups 1, 2, and 3, for which completion deadlines were previously established in the Coordinated Remedy Order.

End of Quarter (after remedy launches) | Percentage of campaign vehicles remedied
1st | 15
2nd | 40
3rd | 50
4th | 60
5th | 70
6th | 80
7th | 85
8th | 90
9th | 95
10th | 100

An Affected Vehicle Manufacturer shall not delay the launch of a remedy campaign, or decline to timely obtain sufficient supply to launch or sustain a remedy campaign, to defer the completion targets set forth in the preceding chart. An Affected Vehicle Manufacturer further accelerating a Priority Group under Paragraph 34 herein shall not be penalized for launching early, and shall be held to the standard of meeting the remedy completion timeline as though the recall remedy campaign launched on the date established in the Paragraph 34 Sufficient Supply & Remedy Launch Deadline (“Supply & Launch Deadline”) chart.

Remedy Completion Maximization Efforts

36. Pursuant to 49 U.S.C. 30166(e), within 90 days of the issuance of this Amendment, a vehicle manufacturer recalling inflators subject to this Amendment shall provide to NHTSA and to the Monitor a written recall engagement plan for maximizing remedy completion rates for all vehicles covered by the Expanded Inflator Recalls. Such plan shall, at a minimum, include, but not be limited to, plans to implement the methodology and techniques presented at NHTSA's Retooling Recalls Workshop held at the U.S. Department of Transportation Headquarters on April 28, 2015, as well as the recommendations the Monitor has supplied to vehicle manufacturers. Further, each such plan shall also include:

a. A narrative statement, which may be supplemented with a table, specifically detailing all inquiries made, contracts entered, and other efforts made to obtain sufficient remedy supply parts for the Inflator Recalls, including, but not limited to, the name of the supplier contacted; date of contact, request or inquiry made; and current status of that inquiry including any date by which action by one party must be taken. To ensure that sufficient United States supply will not be negatively impacted by global supply demands, this statement shall clearly explain: (i) The volume of supply intended for use in the United States; and (ii) the volume of supply the vehicle manufacturer is obtaining for recalls outside the United States; and

b. a narrative statement discussing specific communications and marketing efforts the vehicle manufacturer has taken, is taking, or is considering or planning to take to improve and maximize recall completion rates including, but not limited to, data segmentation and specific motivational tools; and

c. a narrative statement discussing in detail efforts the vehicle manufacturer has taken, is taking, and is considering or planning to take, to prevent the sale of inflators and/or air bag modules covered by the Expanded Inflator Recalls, and vehicles equipped with the same, over the internet (i.e., through online marketplaces including, but not limited to, eBay, Amazon Marketplace, Facebook Marketplace, Alibaba, Craigslist, Hollander.com, and carparts.com). This discussion shall include the company name, contact name, email and telephone contact information for any online marketplace contacted, and any third-party company enlisted to assist in this work; and

d. a detailed narrative discussion of what efforts the vehicle manufacturer has taken, is taking, or is considering or planning to take, to monitor and remove inflators covered by the Expanded Inflator Recalls as the affected vehicles move through the used vehicle market and end-of-life market (i.e. vehicle auctions, franchised dealer lots, independent dealer lots, off-lease programs, scrapyards, etc.). This discussion shall include the company name, contact name, email and telephone contact information for contacts at any third-party company enlisted to assist in this work; and

e. discussion of any other efforts the vehicle manufacturer is considering or has implemented evidencing the good-faith efforts being made by that vehicle manufacturer to maximize the Expanded Inflator Recalls completion rates and timely remedying of affected vehicles and the removal of defective inflators and/or inflator modules.

Such a plan shall be submitted with clear headings and subheadings that state the subject area addressed. A vehicle manufacturer that previously submitted a report pursuant to paragraph 41 of the CRO shall file an updated plan including all of the components identified herein.

37. Pursuant to 49 U.S.C. 30166(e), each Affected Vehicle Manufacturer shall submit to NHTSA and to the Monitor at the end of each calendar quarter supplemental assessments (“Quarterly Supplements”) of the remedy completion and maximization plans submitted pursuant to paragraph 36 of this Amendment. These Quarterly Supplements shall include, at a minimum:

a. A detailed explanation of the effectiveness of efforts since the last reporting period and an update on the implementation status of the maximization plan presented; and

b. a discussion of additional efforts being considered and/or undertaken to increase completion rates and meet the deadlines set forth in the CRO and this Amendment; and

c. a detailed discussion of efforts to implement Monitor recommendations, including recommendations issued prior to this Amendment; and

d. a detailed update on efforts made, and metrics of success, relating to each of the issues and actions identified in paragraph 36 above; and

e. a statement and/or accounting of the impact of the vehicle manufacturer's additional efforts on its recall completion relative to each of its recalls governed by this Amendment.

Quarterly Supplements shall discuss efforts made since the last report as well as future efforts planned or contemplated going forward. Quarterly Supplements shall be submitted with clear headings and subheadings identifying the required subject area addressed. Each Vehicle Manufacturer filing a plan pursuant to paragraph 36 herein shall file its first Quarterly Supplement not later than June 30, 2017.

38. Pursuant to 49 U.S.C. 30166(e), each Vehicle Manufacturer shall submit to the Agency a Sufficient Supply & Remedy Launch Certification Report (“Supply Certification”) not later than the Supply & Remedy Launch Deadline set forth for the applicable Priority Group in paragraph 34 herein, stating:

a. The criteria used to determine the appropriate sufficient supply to launch the remedy program for this particular phase of the recall;

b. the total number of Expanded Inflator Recalls remedy parts (or kits) the vehicle manufacturer has on hand in the United States available to customers through its dealer netwok within 48 hours;

c. the total number of Expanded Inflator Recalls remedy parts the vehicle manufacturer has on hand in the United States currently located at dealer locations ready and available for use as vehicle repair parts;

d. the percentage of Expanded Inflator Recalls remedy parts available to the dealer network within 48 hours (i.e., the volume covered under 38.b. above based on the total number of vehicles remaining to be repaired); and

e. the specific remedy part(s) identified in the Supply Certification, including the inflator supplier and the inflator model or type as identified by the inflator supplier to the vehicle manufacturer.

For paragraphs (b), (c), and (d), if more than one remedy inflator supplier or more than one remedy part is being utilized, the volumes of each part shall also be specified by inflator supplier and inflator model or type. The Supply Certification shall be signed under oath, i.e., accompanied by an affidavit, by a responsible officer of that vehicle manufacturer.

39. Any Affected Vehicle Manufacturer seeking an extension of time to launch based on an insufficient supply by the Supply & Launch Deadline as set forth in the CRO or this Amendment shall submit to the Agency not less than 45 days prior to the applicable deadline a Notice of Anticipated Shortage and Request for Extension (“Extension Request”). An Extension Request shall be signed under oath, (i.e., accompanied by an affidavit, by a responsible officer of that vehicle manufacturer) and shall include a thorough explanation of (i) why the vehicle manufacturer believes it will not be able to meet the sufficient supply deadline; (ii) the remedy part selection, validation, and development process it is using (including the timeline for this process); (iii) the steps the vehicle manufacturer is taking to obtain sufficient supply; (iv) how many replacement parts (number and percentage ready for launch) the vehicle manufacturer reasonably believes will be available by the Supply & Launch Deadline, and (v) a specific extension request date. If an Affected Vehicle Manufacturer determines within 45 days of the Supply & Launch Deadline that it is unlikely to have a sufficient supply of remedy parts by that date, that vehicle manufacturer shall file an Extension Request with the Agency within 2 business days of making such determination. Any vehicle manufacturer filing an Extension Request shall provide an Extension Request Update not less than 14 days prior to the Sufficient Supply & Remedy Launch Deadline informing the Agency of any changes in the sufficient supply status and making any additional necessary requests.

40. Pursuant to 49 U.S.C. 30116-30120 and Public Law 112-141, 126 Stat. 405, within 24 hours of filing a Supply Certification, each Affected Vehicle Manufacturer shall update the remedy status returned in a search of NHTSA's Vehicle Identification Number (“VIN”) Lookup Tool, as well as its own recall search tool, if it is required under federal regulation to support those tools or is voluntarily supporting those tools at the time of this Amendment, to reflect that parts are available for vehicles covered by the Supply Certification.

41. Pursuant to 49 U.S.C. 30120(a), 30120(c)(3), and 30166(e), each Affected Vehicle Manufacturer using, or planning to use, a desiccated PSAN Takata inflator as a final remedy shall work in coordination with Takata to develop and implement an appropriate surveillance and testing plan to ensure the safety of the desiccated PSAN inflator part as an adequate final remedy. Not more than 60 days following the issuance of this Amendment, each vehicle manufacturer affected by this paragraph shall submit, jointly with Takata, to NHTSA and the Monitor a written plan setting forth the testing plan. Such plan shall include parts recovery and testing for Takata desiccated PSAN inflators from the field when that vehicle manufacturer's fleet includes vehicles equipped with Takata desiccated PSAN inflators. Pursuant to paragraph 30 of the November 2015 Consent Order to Takata, these desiccated PSAN inflators remain subject to potential recall if Takata or another credible source has not proven the safety of the parts by December 31, 2019, and, as such, require further investigation by Takata and the relevant vehicle manufacturers, particularly when used as a final remedy part.

42. Pursuant to 49 U.S.C. 30118(c)-(d), 30119(a)-(f), and 30120(c)(3), each Affected Vehicle Manufacturer shall conduct supplemental owner notification efforts, in coordination with the Agency and the Monitor, to increase remedy completion rates and accelerate its remedy completion timeline. Such notifications shall be made by an Affected Vehicle Manufacturer either upon specific recommendation of the Monitor to that Affected Vehicle Manufacturer, or at NHTSA's direction, or may also occur upon a vehicle manufacturer initiating such action in consultation with NHTSA and/or the Monitor. Supplemental communications shall adhere to Coordinated Communications Recommendations issued by the Monitor, forthcoming, unless otherwise agreed to by the Agency. Coordinated Communications Recommendations shall be made public on NHTSA's Web site. One or more Affected Vehicle Manufacturer(s) may, at any time, propose alternative messaging, imaging, formats, technologies, or communications strategies, with any supporting data, analysis, and rationales favoring the variation in communication, to the Agency and the Monitor. Not less than five (5) business days prior to sending, or otherwise issuing, a supplemental communication under this paragraph, an Affected Vehicle Manufacturer shall provide electronic versions of all supplemental consumer communications to both the Agency and the Monitor following the submission instructions to be set forth in the Coordinated Communications Recommendations.

Potential Future Recalls

43. Paragraph 30 of the November 2015 Consent Order provides that the NHTSA Administrator may issue final orders for the recall of Takata's desiccated PSAN inflators if, by December 31, 2019, Takata or another credible source has not proven to NHTSA's satisfaction that the inflators are safe or the safe service life of the inflators. Pursuant to 49 U.S.C. 30166(e), each Affected Vehicle Manufacturer with any vehicle in its fleet equipped with a desiccated PSAN Takata inflator, and not filing a report under paragraph 41 herein, shall provide a written plan, not more than 90 days following the issuance of this amendment, fully detailing the vehicle manufacturer's plans to confirm the safety and/or service life of the desiccated PSAN inflator(s) used in its fleet. This plan shall include discussion of any plans to coordinate with Takata for recovery of parts from fleet vehicles and testing, and any anticipated or future plans to develop or expand a recovery and testing protocol of the desiccated PSAN inflators.

Record Keeping & Reports

44. Pursuant to 49 U.S.C. 30166(e), Affected Vehicle Manufacturers shall submit complete and accurate biweekly recall completion update reports to NHTSA and the Monitor in the format(s) and manner requested.

45. Currently, vehicle manufacturers conducting recalls report to NHTSA vehicles determined to be unreachable for recall remedy due to export, theft, scrapping, failure to receive notification (return mail), or other reasons (manufacturer specifies), as part of regulatory requirements. See 49 CFR 573.7(b)(5). Recording and reporting the volume of the unreachable population is important in calculating a recall's completion and assessing a recall campaign's success. It is also important for purposes of reallocating outreach resources from vehicles likely no longer in service to vehicles that are, and thus continue to present an unreasonable risk to the public. In the interest of obtaining a higher degree of accuracy in recalls completion reporting, and to support the Affected Vehicle Manufacturers in focusing their resources on remedy campaign vehicles at risk, Affected Vehicle Manufacturers are hereby permitted to count vehicles in the “other reasons” portion of their unreachable population counts where:

a. ALL vehicles in the particular recall campaign are at least five years of age measured from their production dates; and

b. a vehicle has not been registered in any state or territory, or has held an expired registration, for at least three continuous years; and

c. at least one alternative, nationally recognized data source corroborates the vehicle is no longer in service. Examples of such data sources include: Records from the National Motor Vehicle Title Information Service (NMVTIS); a license plate recognition data source; and a vehicle history report reflecting a lack of activity for at least three years (e.g., no repair or maintenance history, no transfer of title or purchase records, etc.). In utilizing this provision, a vehicle manufacturer shall not ignore information in its possession that indicates that the vehicle remains in service.

46. For the purposes of reporting under this Amendment, Affected Vehicle Manufacturers may remove from recall outreach efforts the vehicles counted in the “other” category pursuant to the procedure set forth in the preceding paragraph. This includes re-notifications. However, in all instances, Affected Vehicle Manufacturers shall conduct required first class mailings, pursuant to 49 CFR 577.5. These mailings may be discontinued for vehicles the vehicle manufacturer has identified, and reported to NHTSA, as scrapped, exported, stolen, or for whom mail was returned.

47. Before utilizing the “other” category as set forth herein, the vehicle manufacturer shall explicitly notify NHTSA through a Part 573 document (initial or updated) that it intends to use the “other” reporting category to report counts of vehicles that meet its defined criteria. The manufacturer shall notify NHTSA of its decision before filing the quarterly report, or biweekly completion report, in which the vehicle manufacturer intends to utilize this “other” category as set forth herein.

48. Vehicle manufacturers opting to use the “other” reporting category shall:

a. Keep records to substantiate the determination to count any vehicle in the “other” category; and

b. in the initial notice, and with updates upon NHTSA's request, provide written documentation identifying to NHTSA an estimate of the financial resources saved utilizing this approach and explaining how those resources are reallocated to improve recall completion rates for the recalled vehicle population that remains in service; and

c. perform retroactive monitoring to identify any VIN reported as “other” but that was later serviced, for any reason, by a dealer. This recurring obligation shall be completed every quarter for which the vehicle manufacturer reports on the recall. Should the number of these VINs exceed five (5) percent of the total number of “other” reported VINs, the vehicle manufacturer must notify NHTSA and justify why the “other” category should remain available for use for that recall; and

d. maintain ALL VINs as active, or “live”, in the VIN data systems such that any search for the VIN will reflect an open recall status on the NHTSA web tool, the manufacturer's web tool, and any and all dealer and other data networks with, and through which, the vehicle manufacturer communicates safety recall status information.

49. The Agency may, in its discretion, reject, modify, or terminate, a manufacturer's use of the “other” category reporting mechanism.

50. Vehicle manufacturers are required to provide six (6) consecutive quarters of reporting on recall completions pursuant to 49 CFR 573.7. Some Affected Vehicle Manufacturers are utilizing phased launches to prioritize parts availability in certain recall remedy campaigns. While quarterly reports must be filed once a vehicle manufacturer has initiated a recall remedy program, the consecutive quarters of reporting shall be counted towards the six required reports once the campaign is fully launched.

Miscellaneous

51. NHTSA may, after consultation with an affected vehicle manufacturer, and/or Takata, or upon a recommendation of the Monitor, modify or amend provisions of this Amendment to, among other things: Account for and timely respond to newly obtained facts, data, changed circumstances, and/or other information that may become available throughout the term of the Coordinated Remedy Program. Such modifications may include, but are not limited to, changes to the Priority Groups contained in Amended Annex A; allowing for reasonable extensions of time for the timelines contained in Paragraphs 34 and 35; facilitating further recalls as contemplated by Paragraphs 29 and 30 of the Amended Consent Order; or for any other purpose related to the Coordinated Remedy Program, the Coordinated Remedy Order, and/or this Amendment to the Coordinated Remedy Order. Any such modification or amendment shall be made in writing signed by the NHTSA Administrator or his designee.

52. This Amendment shall be binding upon, and inure to the benefit of, Takata and the Affected Vehicle Manufacturers, including their current and former directors, officers, employees, agents, subsidiaries, affiliates, successors, and assigns, as well as any person or entity succeeding to its interests or obligations herein, including as a result of any changes to the corporate structure or relationships among or between Takata, or any Affected Vehicle Manufacturers, and any of that company's parents, subsidiaries, or affiliates.

53. This Amendment shall become effective upon issuance by the NHTSA Administrator. In the event of a breach of, or failure to perform, any term of this Amendment by Takata or any Affected Vehicle Manufacturer, NHTSA may pursue any and all appropriate remedies, including, but not limited to, seeking civil penalties pursuant to 49 U.S.C. 30165, actions compelling specific performance of the terms of this Order, and/or commencing litigation to enforce this Order in any United States District Court.

54. This Amendment to the Coordinated Remedy Order should be construed to include all terms and provisions of the Coordinated Remedy Order, and prior Amendments, unless expressly superseded herein.

55. This Amendment to the Coordinated Remedy Order shall not be construed to create rights in, or grant any cause of action to, any third party not subject to this Amendment.

56. In carrying out the directives of the Coordinated Remedy Order and this Amendment to the Coordinated Remedy Order, vehicle manufacturers and vehicle equipment manufacturers (i.e., suppliers) shall not engage in any conduct prohibited under the antitrust laws, or other applicable law.

It is so ordered:National Highway Traffic Safety Administration, U.S. Department of Transportation.

Dated: December 9, 2016.
Mark R. Rosekind,
Administrator.

AMENDED ANNEX A ²²

²² Corrected as of December 16, 2016.

Coordinated Remedy Program Priority Groups

In the following Priority Groups, the area of high absolute humidity (“HAH”) is defined by each vehicle manufacturer individually, but in all instances includes vehicles originally sold or ever registered in Alabama, Florida, Georgia, Hawaii, Louisiana, Mississippi, Texas, Puerto Rico, American Samoa, Guam, Saipan, and the U.S. Virgin Islands. “Non-HAH” means any vehicle that has not been identified by the vehicle manufacturer as having been originally sold or ever registered in the HAH region, as defined by the vehicle manufacturer. The terms HAH and Non-HAH apply to vehicles in Priority Groups 1, 2, and 3. Zones A, B, and C are defined in paragraph 7 of the Amendment to November 3, 2015 Consent Order issued to Takata by the National Highway Traffic Safety Administration on May 4, 2016. Zone A includes the previously defined HAH plus the expansion states of California and South Carolina. Zones A, B, and C apply to Priority Groups 4 through 12.

²³ Where a vehicle make, model, model year appears in one Priority Group (“PG”) and the “Zone” is listed as “(Non-A)”, and the same vehicle make, model, and model year appears in a later PG as applicable to “Zone C”, the “Non-A” zone refers to Zone B vehicles.

PG | Model years | Make | Model, inflator position & (zone) ²³
1 | 2003-2003 | Acura | 3.2CL DAB (HAH).
1 | 2003-2003 | Acura | 3.2CL DAB (Non-HAH).
1 | 2002-2003 | Acura | 3.2TL DAB (HAH).
1 | 2002-2003 | Acura | 3.2TL DAB (Non-HAH).
1 | 2002-2006 | BMW | 3 Series, M3 DAB (HAH).
1 | 2002-2006 | BMW | 3 Series, M3 PAB (HAH).
1 | 2005-2008 | Chrysler | 300, 300C, SRT8 DAB (HAH).
1 | 2005-2005 | Chrysler | 300, 300C, SRT8 DAB (Non-HAH).
1 | 2005-2005 | Chrysler | 300, 300C, SRT8 PAB (HAH).
1 | 2008-2008 | Dodge | Challenger DAB (HAH).
1 | 2006-2008 | Dodge | Charger DAB (HAH).
1 | 2005-2005 | Dodge | Dakota Pickup DAB (HAH).
1 | 2005-2005 | Dodge | Dakota Pickup PAB (HAH).
1 | 2004-2005 | Dodge | Durango DAB (HAH).
1 | 2004-2005 | Dodge | Durango PAB (HAH).
1 | 2005-2008 | Dodge | Magnum DAB (HAH).
1 | 2005-2005 | Dodge | Magnum DAB (Non-HAH).
1 | 2005-2005 | Dodge | Magnum PAB (HAH).
1 | 2004-2005 | Dodge | RAM 1500 Pickup PAB (HAH).
1 | 2004-2005 | Dodge | RAM 1500, 2500, 3500 Pickup DAB (HAH).
1 | 2005-2005 | Dodge | RAM 2500 Pickup PAB (HAH).
1 | 2007-2008 | Dodge | Sprinter PAB (HAH).
1 | 2005-2006 | Ford | GT DAB (HAH).
1 | 2005-2006 | Ford | GT PAB (HAH).
1 | 2005-2008 | Ford | Mustang DAB (HAH).
1 | 2004-2005 | Ford | Ranger DAB (HAH).
1 | 2004-2005 | Ford | Ranger PAB (HAH).
1 | 2007-2008 | Freightliner | Sprinter PAB (HAH).
1 | 2005-2005 | GM-Saab | 9-2X PAB (HAH).
1 | 2001-2003 | Honda | ACCORD DAB (HAH).
1 | 2001-2003 | Honda | ACCORD DAB (Non-HAH).
1 | 2003-2003 | Honda | ACCORD PAB (HAH).
1 | 2003-2003 | Honda | ACCORD PAB (Non-HAH).
1 | 2001-2005 | Honda | CIVIC DAB (HAH).
1 | 2001-2003 | Honda | CIVIC DAB (Non-HAH).
1 | 2003-2005 | Honda | CIVIC HYBRID DAB (HAH).
1 | 2003-2003 | Honda | CIVIC HYBRID DAB (Non-HAH).
1 | 2003-2005 | Honda | CIVIC HYBRID PAB (HAH).
1 | 2003-2003 | Honda | CIVIC HYBRID PAB (Non-HAH).
1 | 2001-2005 | Honda | CIVIC NGV DAB (HAH).
1 | 2001-2003 | Honda | CIVIC NGV DAB (Non-HAH).
1 | 2001-2005 | Honda | CIVIC NGV PAB (HAH).
1 | 2001-2003 | Honda | CIVIC NGV PAB (Non-HAH).
1 | 2001-2005 | Honda | CIVIC PAB (HAH).
1 | 2001-2003 | Honda | CIVIC PAB (Non-HAH).
1 | 2002-2006 | Honda | CR-V DAB (HAH).
1 | 2002-2002 | Honda | CR-V DAB (Non-HAH).
1 | 2002-2005 | Honda | CR-V PAB (HAH).
1 | 2002-2002 | Honda | CR-V PAB (Non-HAH).
1 | 2003-2006 | Honda | ELEMENT DAB (HAH).
1 | 2003-2004 | Honda | ELEMENT PAB (HAH).
1 | 2002-2002 | Honda | ODYSSEY DAB (HAH).
1 | 2002-2002 | Honda | ODYSSEY PAB (HAH).
1 | 2003-2008 | Honda | PILOT DAB (HAH).
1 | 2003-2008 | Honda | PILOT DAB (Non-HAH).
1 | 2003-2005 | Honda | PILOT PAB (HAH).
1 | 2003-2005 | Honda | PILOT PAB (Non-HAH).
1 | 2006-2006 | Honda | RIDGELINE DAB (HAH).
1 | 2006-2006 | Honda | RIDGELINE PAB (HAH).
1 | 2002-2003 | Infiniti | QX4 PAB (HAH).
1 | 2007-2007 | Lexus | SC430 PAB (HAH).
1 | 2003-2008 | Mazda | Mazda6 DAB (HAH).
1 | 2003-2008 | Mazda | Mazda6 PAB (HAH).
1 | 2004-2008 | Mazda | RX8 DAB (HAH).
1 | 2004-2004 | Mazda | RX8 PAB (HAH).
1 | 2006-2007 | Mazda | Speed6 DAB (HAH).
1 | 2006-2007 | Mazda | Speed6 PAB (HAH).
1 | 2004-2006 | Mitsubishi | Lancer Evolution PAB (HAH).
1 | 2004-2006 | Mitsubishi | Lancer PAB (HAH).
1 | 2004-2004 | Mitsubishi | Lancer Sportback PAB (HAH).
1 | 2002-2003 | Nissan | Pathfinder PAB (HAH).
1 | 2002-2003 | Nissan | Sentra PAB (HAH).
1 | 2003-2007 | Pontiac | Vibe PAB (HAH).
1 | 2004-2005 | Subaru | Impreza/WRX/STI PAB (HAH).
1 | 2005-2008 | Subaru | Legacy/Outback PAB (HAH).
1 | 2003-2007 | Toyota | Corolla PAB (HAH).
1 | 2003-2007 | Toyota | Matrix PAB (HAH).
1 | 2005-2007 | Toyota | Sequoia PAB (HAH).
1 | 2005-2006 | Toyota | Tundra PAB (HAH).
2 | 2003-2006 | Acura | MDX DAB (HAH).
2 | 2003-2006 | Acura | MDX DAB (Non-HAH).
2 | 2003-2005 | Acura | MDX PAB (HAH).
2 | 2003-2005 | Acura | MDX PAB (Non-HAH).
2 | 2002-2006 | BMW | 3 Series, M3 DAB (Non-HAH).
2 | 2000-2001 | BMW | 3 Series, M3 PAB (HAH).
2 | 2002-2006 | BMW | 3 Series, M3 PAB (Non-HAH).
2 | 2002-2003 | BMW | 5 Series, M5 DAB (HAH).
2 | 2002-2003 | BMW | 5 Series, M5 DAB (Non-HAH).
2 | 2003-2004 | BMW | X5 SAV DAB (HAH).
2 | 2003-2004 | BMW | X5 SAV DAB (Non-HAH).
2 | 2007-2008 | Chevrolet/GMC | Silverado/Sierra HD PAB (HAH).
2 | 2009-2010 | Chrysler | 300, 300C, SRT8 DAB (HAH).
2 | 2006-2010 | Chrysler | 300, 300C, SRT8 DAB (Non-HAH).
2 | 2007-2008 | Chrysler | Aspen DAB (HAH).
2 | 2007-2008 | Chrysler | Aspen DAB (Non-HAH).
2 | 2009-2010 | Dodge | Challenger DAB (HAH).
2 | 2008-2010 | Dodge | Challenger DAB (Non-HAH).
2 | 2009-2010 | Dodge | Charger DAB (HAH).
2 | 2006-2010 | Dodge | Charger DAB (Non-HAH).
2 | 2006-2011 | Dodge | Dakota Pickup DAB (HAH).
2 | 2005-2011 | Dodge | Dakota Pickup DAB (Non-HAH).
2 | 2006-2008 | Dodge | Durango DAB (HAH).
2 | 2004-2008 | Dodge | Durango DAB (Non-HAH).
2 | 2006-2008 | Dodge | Magnum DAB (Non-HAH).
2 | 2006-2009 | Dodge | RAM 1500, 2500, 3500 Pickup DAB (HAH).
2 | 2004-2009 | Dodge | RAM 1500, 2500, 3500 Pickup DAB (Non-HAH).
2 | 2003-2003 | Dodge | RAM 1500, 2500, 3500 Pickup PAB (HAH).
2 | 2003-2003 | Dodge | RAM 1500, 2500, 3500 Pickup PAB (Non-HAH).
2 | 2007-2009 | Dodge | RAM 3500 Cab Chassis DAB (HAH).
2 | 2007-2009 | Dodge | RAM 3500 Cab Chassis DAB (Non-HAH).
2 | 2006-2009 | Dodge | RAM 3500 Pickup DAB (HAH).
2 | 2006-2009 | Dodge | RAM 3500 Pickup DAB (Non-HAH).
2 | 2008-2010 | Dodge | RAM 4500, 5500 Cab Chassis DAB (HAH).
2 | 2008-2010 | Dodge | RAM 4500, 5500 Cab Chassis DAB (Non-HAH).
2 | 2007-2008 | Dodge | Sprinter PAB (Non-HAH).
2 | 2005-2006 | Ford | GT DAB (HAH).
2 | 2005-2006 | Ford | GT DAB (Non-HAH).
2 | 2009-2014 | Ford | Mustang DAB (HAH).
2 | 2005-2008 | Ford | Mustang DAB (Non-HAH).
2 | 2006-2006 | Ford | Ranger PAB (HAH).
2 | 2007-2008 | Freightliner | Sprinter PAB (Non-HAH).
2 | 2004-2007 | Honda | ACCORD DAB (HAH).
2 | 2004-2007 | Honda | ACCORD DAB (Non-HAH).
2 | 2004-2007 | Honda | ACCORD PAB (HAH).
2 | 2004-2007 | Honda | ACCORD PAB (Non-HAH).
2 | 2004-2005 | Honda | CIVIC DAB (Non-HAH).
2 | 2004-2005 | Honda | CIVIC HYBRID DAB (Non-HAH).
2 | 2004-2005 | Honda | CIVIC HYBRID PAB (Non-HAH).
2 | 2004-2005 | Honda | CIVIC NGV DAB (Non-HAH).
2 | 2004-2005 | Honda | CIVIC NGV PAB (Non-HAH).
2 | 2004-2005 | Honda | CIVIC PAB (Non-HAH).
2 | 2003-2006 | Honda | CR-V DAB (Non-HAH).
2 | 2003-2005 | Honda | CR-V PAB (Non-HAH).
2 | 2007-2011 | Honda | ELEMENT DAB (HAH).
2 | 2003-2007 | Honda | ELEMENT DAB (Non-HAH).
2 | 2003-2004 | Honda | ELEMENT PAB (Non-HAH).
2 | 2003-2004 | Honda | ODYSSEY DAB (HAH).
2 | 2002-2004 | Honda | ODYSSEY DAB (Non-HAH).
2 | 2003-2004 | Honda | ODYSSEY PAB (HAH).
2 | 2002-2004 | Honda | ODYSSEY PAB (Non-HAH).
2 | 2004-2004 | Honda | PILOT PAB (HAH).
2 | 2006-2006 | Honda | RIDGELINE DAB (Non-HAH).
2 | 2006-2006 | Honda | RIDGELINE PAB (Non-HAH).
2 | 2003-2003 | Infiniti | FX35 PAB (HAH).
2 | 2003-2003 | Infiniti | FX45 PAB (HAH).
2 | 2001-2001 | Infiniti | I30 PAB (HAH).
2 | 2002-2003 | Infiniti | I35 PAB (HAH).
2 | 2002-2003 | Infiniti | QX4 PAB (Non-HAH).
2 | 2007-2007 | Lexus | SC430 PAB (Non-HAH).
2 | 2004-2006 | Mazda | B-Series PAB (HAH).
2 | 2003-2008 | Mazda | Mazda6 DAB (Non-HAH).
2 | 2003-2008 | Mazda | Mazda6 PAB (Non-HAH).
2 | 2004-2005 | Mazda | MPV PAB (HAH).
2 | 2004-2004 | Mazda | RX8 DAB (Non-HAH).
2 | 2005-2005 | Mazda | RX8 PAB (HAH).
2 | 2004-2004 | Mazda | RX8 PAB (Non-HAH).
2 | 2006-2007 | Mazda | Speed6 DAB (Non-HAH).
2 | 2006-2007 | Mazda | Speed6 PAB (Non-HAH).
2 | 2004-2006 | Mitsubishi | Lancer Evolution PAB (Non-HAH).
2 | 2004-2006 | Mitsubishi | Lancer PAB (Non-HAH).
2 | 2004-2004 | Mitsubishi | Lancer Sportback PAB (Non-HAH).
2 | 2006-2009 | Mitsubishi | Raider DAB (HAH).
2 | 2006-2009 | Mitsubishi | Raider DAB (Non-HAH).
2 | 2001-2003 | Nissan | Maxima PAB (HAH).
2 | 2004-2004 | Nissan | Pathfinder PAB (HAH).
2 | 2002-2004 | Nissan | Pathfinder PAB (Non-HAH).
2 | 2004-2006 | Nissan | Sentra PAB (HAH).
2 | 2002-2006 | Nissan | Sentra PAB (Non-HAH).
2 | 2003-2007 | Pontiac | Vibe PAB (Non-HAH).
2 | 2008-2009 | Sterling | Bullet DAB (HAH).
2 | 2008-2009 | Sterling | Bullet DAB (Non-HAH).
2 | 2005-2005 | Subaru | Baja PAB (HAH).
2 | 2003-2004 | Subaru | Legacy/Outback/Baja PAB (HAH).
2 | 2003-2007 | Toyota | Corolla PAB (Non-HAH).
2 | 2003-2007 | Toyota | Matrix PAB (Non-HAH).
2 | 2004-2005 | Toyota | RAV4 DAB (HAH).
2 | 2004-2005 | Toyota | RAV4 DAB (Non-HAH).
2 | 2002-2004 | Toyota | Sequoia PAB (HAH).
2 | 2005-2007 | Toyota | Sequoia PAB (Non-HAH).
2 | 2003-2004 | Toyota | Tundra PAB (HAH).
2 | 2005-2006 | Toyota | Tundra PAB (Non-HAH).
3 | 2005-2005 | Acura | RL PAB (HAH).
3 | 2005-2005 | Acura | RL PAB (Non-HAH).
3 | 2000-2001 | BMW | 3 Series, M3 PAB (Non-HAH).
3 | 2007-2008 | Chevrolet/GMC | Silverado/Sierra HD PAB (Non-HAH).
3 | 2005-2006 | Ford | GT DAB (Non-HAH).
3 | 2005-2008 | Ford | Mustang DAB (HAH).
3 | 2005-2014 | Ford | Mustang DAB (Non-HAH).
3 | 2004-2006 | Ford | Ranger PAB (Non-HAH).
3 | 2005-2005 | GM-Saab | 9-2X PAB (Non-HAH).
3 | 2008-2011 | Honda | ELEMENT DAB (Non-HAH).
3 | 2004-2005 | Infiniti | FX35 PAB (HAH).
3 | 2003-2003 | Infiniti | FX35 PAB (Non-HAH).
3 | 2004-2005 | Infiniti | FX45 PAB (HAH).
3 | 2003-2003 | Infiniti | FX45 PAB (Non-HAH).
3 | 2001-2001 | Infiniti | I30 PAB (Non-HAH).
3 | 2004-2004 | Infiniti | I35 PAB (HAH).
3 | 2002-2003 | Infiniti | I35 PAB (Non-HAH).
3 | 2006-2006 | Infiniti | M45 PAB (HAH).
3 | 2002-2006 | Lexus | SC430 PAB (HAH).
3 | 2002-2006 | Lexus | SC430 PAB (Non-HAH).
3 | 2004-2006 | Mazda | B-Series PAB (Non-HAH).
3 | 2004-2008 | Mazda | RX8 DAB (Non-HAH).
3 | 2004-2004 | Mazda | RX8 PAB (Non-HAH).
3 | 2001-2003 | Nissan | Maxima PAB (Non-HAH).
3 | 2004-2005 | Subaru | Impreza/WRX/STI PAB (Non-HAH).
3 | 2005-2008 | Subaru | Legacy/Outback PAB (Non-HAH).
3 | 2003-2004 | Subaru | Legacy/Outback/Baja PAB (Non-HAH).
3 | 2002-2004 | Toyota | Sequoia PAB (Non-HAH).
3 | 2003-2004 | Toyota | Tundra PAB (Non-HAH).
4 | 2003-2006 | Acura | MDX PAB (A).
4 | 2003-2006 | Acura | MDX PAB (Non-A).
4 | 2007-2009 | Acura | RDX DAB (A).
4 | 2005-2011 | Acura | RL DAB (A).
4 | 2005-2009 | Acura | RL DAB (Non-A).
4 | 2005-2011 | Acura | RL PAB (A).
4 | 2005-2009 | Acura | RL PAB (Non-A).
4 | 2009-2009 | Acura | TL DAB (A).
4 | 2009-2009 | Acura | TSX PAB (A).
4 | 2010-2011 | Acura | ZDX DAB (A).
4 | 2010-2011 | Acura | ZDX PAB (A).
4 | 2006-2009 | Audi | A3 DAB (A).
4 | 2007-2009 | Audi | A4 Cabriolet DAB (A).
4 | 2009-2009 | Audi | Audi Q5 DAB (A).
4 | 2008-2008 | Audi | RS 4 Cabriolet DAB (A).
4 | 2007-2009 | Audi | S4 Cabriolet DAB (A).
4 | 2008-2009 | BMW | 1 Series DAB (A).
4 | 2006-2009 | BMW | 3 Series DAB (A).
4 | 2007-2009 | BMW | X3 DAB (A).
4 | 2007-2009 | BMW | X5 DAB (A).
4 | 2007-2009 | BMW | X5 PAB (A).
4 | 2008-2009 | BMW | X6 DAB (A).
4 | 2008-2009 | BMW | X6 PAB (A).
4 | 2005-2012 | Chrysler | 300 PAB (A).
4 | 2007-2009 | Chrysler | Aspen PAB (A).
4 | 2007-2008 | Chrysler | Crossfire DAB (A).
4 | 2008-2012 | Dodge | Challenger PAB (A).
4 | 2008-2009 | Dodge | Challenger PAB (Non-A).
4 | 2006-2012 | Dodge | Charger PAB (A).
4 | 2005-2011 | Dodge | Dakota PAB (A).
4 | 2004-2009 | Dodge | Durango PAB (A).
4 | 2005-2008 | Dodge | Magnum PAB (A).
4 | 2005-2008 | Dodge | Magnum PAB (Non-A).
4 | 2004-2008 | Dodge | Ram 1500/2500/3500 Pickup PAB (A).
4 | 2005-2009 | Dodge | Ram 2500 Pickup PAB (A).
4 | 2007-2010 | Dodge | Ram 3500 Cab Chassis PAB (A).
4 | 2006-2009 | Dodge | Ram 3500 Pickup PAB (A).
4 | 2008-2010 | Dodge | Ram 4500/5500 Cab Chassis PAB (A).
4 | 2009-2009 | Dodge | Sprinter PAB (A).
4 | 2009-2009 | Dodge | Sprinter PAB (Non-A).
4 | 2009-2009 | Ferrari | California PAB (A).
4 | 2005-2006 | Ford | GT PAB (A).
4 | 2005-2006 | Ford | GT PAB (Non-A).
4 | 2005-2011 | Ford | Mustang PAB (A).
4 | 2005-2008 | Ford | Mustang PAB (Non-A).
4 | 2004-2006 | Ford | Ranger DAB (A).
4 | 2004-2006 | Ford | Ranger DAB (Non-A).
4 | 2007-2009 | Freightliner | Sprinter DAB (A).
4 | 2007-2009 | Freightliner | Sprinter DAB (Non-A).
4 | 2009-2009 | Freightliner | Sprinter PAB (A).
4 | 2009-2009 | Freightliner | Sprinter PAB (Non-A).
4 | 2008-2009 | Honda | ACCORD PAB (A).
4 | 2006-2009 | Honda | CIVIC HYBRID PAB (A).
4 | 2006-2009 | Honda | CIVIC NGV PAB (A).
4 | 2006-2009 | Honda | CIVIC PAB (A).
4 | 2007-2011 | Honda | CR-V DAB (A).
4 | 2007-2009 | Honda | CR-V DAB (Non-A).
4 | 2005-2011 | Honda | CR-V PAB (A).
4 | 2005-2009 | Honda | CR-V PAB (Non-A).
4 | 2003-2011 | Honda | ELEMENT PAB (A).
4 | 2003-2009 | Honda | ELEMENT PAB (Non-A).
4 | 2010-2011 | Honda | FCX CLARITY DAB (A).
4 | 2010-2011 | Honda | FCX CLARITY PAB (A).
4 | 2009-2011 | Honda | FIT DAB (A).
4 | 2009-2009 | Honda | FIT DAB (Non-A).
4 | 2007-2011 | Honda | FIT PAB (A).
4 | 2009-2009 | Honda | FIT PAB (Non-A).
4 | 2010-2011 | Honda | INSIGHT DAB (A).
4 | 2010-2011 | Honda | INSIGHT PAB (A).
4 | 2002-2004 | Honda | ODYSSEY PAB (A).
4 | 2002-2004 | Honda | ODYSSEY PAB (Non-A).
4 | 2003-2009 | Honda | PILOT PAB (A).
4 | 2003-2008 | Honda | PILOT PAB (Non-A).
4 | 2007-2011 | Honda | RIDGELINE DAB (A).
4 | 2007-2009 | Honda | RIDGELINE DAB (Non-A).
4 | 2006-2011 | Honda | RIDGELINE PAB (A).
4 | 2006-2009 | Honda | RIDGELINE PAB (Non-A).
4 | 2009-2009 | Jaguar | XF PAB (A).
4 | 2007-2012 | Jeep | Wrangler PAB (A).
4 | 2007-2009 | Land Rover | Range Rover PAB (A).
4 | 2007-2009 | Lexus | ES350 PAB (A).
4 | 2008-2009 | Lexus | IS F PAB (A).
4 | 2006-2009 | Lexus | IS250 PAB (A).
4 | 2006-2009 | Lexus | IS350 PAB (A).
4 | 2004-2006 | Mazda | B-Series DAB (A).
4 | 2004-2006 | Mazda | B-Series DAB (Non-A).
4 | 2003-2008 | Mazda | Mazda6 PAB (A).
4 | 2006-2007 | Mazda | Mazdaspeed6 PAB (A).
4 | 2004-2008 | Mazda | RX8 PAB (A).
4 | 2005-2009 | Mercedes-Benz | C-Class DAB (A).
4 | 2008-2009 | Mercedes-Benz | C-Class PAB (A).
4 | 2009-2009 | Mercedes-Benz | GL-Class DAB (A).
4 | 2009-2009 | Mercedes-Benz | ML-Class DAB (A).
4 | 2009-2009 | Mercedes-Benz | R-Class DAB (A).
4 | 2007-2008 | Mercedes-Benz | SLK-Class DAB (A).
4 | 2006-2007 | Mitsubishi | Lancer PAB (A).
4 | 2006-2009 | Mitsubishi | Raider PAB (A).
4 | 2007-2009 | Nissan | Versa Hatchback PAB (A).
4 | 2007-2009 | Nissan | Versa Sedan PAB (A).
4 | 2009-2009 | Pontiac | Vibe PAB (A).
4 | 2006-2009 | Saab | 9-3 DAB (A).
4 | 2006-2009 | Saab | 9-5 DAB (A).
4 | 2008-2009 | Saturn | Astra DAB (A).
4 | 2008-2009 | Scion | xB PAB (A).
4 | 2008-2009 | Sterling | Bullet DAB (A).
4 | 2008-2009 | Sterling | Bullet DAB (Non-A).
4 | 2003-2005 | Subaru | Baja PAB (A).
4 | 2003-2004 | Subaru | Legacy PAB (A).
4 | 2003-2004 | Subaru | Outback PAB (A).
4 | 2009-2009 | Toyota | Corolla Matrix PAB (A).
4 | 2009-2009 | Toyota | Corolla PAB (A).
4 | 2006-2009 | Toyota | Yaris HB PAB (A).
4 | 2007-2009 | Toyota | Yaris PAB (A).
4 | 2009-2009 | Volkswagen | CC DAB (A).
4 | 2009-2009 | Volkswagen | GTI DAB (A).
4 | 2006-2008 | Volkswagen | Passat Sedan DAB (A).
4 | 2007-2008 | Volkswagen | Passat Wagon DAB (A).
5 | 2013-2016 | Acura | ILX DAB (A).
5 | 2013-2014 | Acura | ILX HYBRID DAB (A).
5 | 2010-2016 | Acura | RDX DAB (A).
5 | 2007-2009 | Acura | RDX DAB (Non-A).
5 | 2012-2012 | Acura | RL DAB (A).
5 | 2010-2011 | Acura | RL DAB (Non-A).
5 | 2010-2011 | Acura | RL PAB (Non-A).
5 | 2010-2014 | Acura | TL DAB (A).
5 | 2009-2009 | Acura | TL DAB (Non-A).
5 | 2010-2011 | Acura | TSX PAB (A).
5 | 2009-2009 | Acura | TSX PAB (Non-A).
5 | 2012-2013 | Acura | ZDX DAB (A).
5 | 2010-2011 | Acura | ZDX DAB (Non-A).
5 | 2010-2011 | Acura | ZDX PAB (Non-A).
5 | 2010-2013 | Audi | A3 DAB (A).
5 | 2006-2009 | Audi | A3 DAB (Non-A).
5 | 2005-2008 | Audi | A4 Avant PAB (A).
5 | 2007-2009 | Audi | A4 Cabriolet DAB (Non-A).
5 | 2007-2009 | Audi | A4 Cabriolet PAB (A).
5 | 2005-2008 | Audi | A4 Sedan PAB (A).
5 | 2010-2012 | Audi | A5 Cabriolet DAB (A).
5 | 2006-2009 | Audi | A6 Avant PAB (A).
5 | 2005-2009 | Audi | A6 Sedan PAB (A).
5 | 2010-2012 | Audi | Audi Q5 DAB (A).
5 | 2009-2009 | Audi | Audi Q5 DAB (Non-A).
5 | 2008-2008 | Audi | RS 4 Cabriolet DAB (Non-A).
5 | 2008-2008 | Audi | RS 4 Cabriolet PAB (A).
5 | 2007-2008 | Audi | RS 4 Sedan PAB (A).
5 | 2005-2008 | Audi | S4 Avant PAB (A).
5 | 2007-2009 | Audi | S4 Cabriolet DAB (Non-A).
5 | 2007-2009 | Audi | S4 Cabriolet PAB (A).
5 | 2005-2008 | Audi | S4 Sedan PAB (A).
5 | 2010-2012 | Audi | S5 Cabriolet DAB (A).
5 | 2007-2009 | Audi | S6 Sedan PAB (A).
5 | 2010-2013 | BMW | 1 Series DAB (A).
5 | 2008-2009 | BMW | 1 Series DAB (Non-A).
5 | 2010-2013 | BMW | 3 Series DAB (A).
5 | 2006-2009 | BMW | 3 Series DAB (Non-A).
5 | 2013-2015 | BMW | X1 DAB (A).
5 | 2010-2010 | BMW | X3 DAB (A).
5 | 2007-2009 | BMW | X3 DAB (Non-A).
5 | 2010-2011 | BMW | X5 DAB (A).
5 | 2007-2009 | BMW | X5 DAB (Non-A).
5 | 2010-2011 | BMW | X5 PAB (A).
5 | 2007-2008 | BMW | X5 PAB (Non-A).
5 | 2010-2011 | BMW | X6 DAB (A).
5 | 2008-2009 | BMW | X6 DAB (Non-A).
5 | 2010-2011 | BMW | X6 Hybrid DAB (A).
5 | 2010-2011 | BMW | X6 Hybrid PAB (A).
5 | 2010-2011 | BMW | X6 PAB (A).
5 | 2008-2008 | BMW | X6 PAB (Non-A).
5 | 2005-2012 | Chrysler | 300 PAB (Non-A).
5 | 2007-2009 | Chrysler | Aspen PAB (Non-A).
5 | 2007-2008 | Chrysler | Crossfire DAB (Non-A).
5 | 2010-2012 | Dodge | Challenger PAB (Non-A).
5 | 2006-2012 | Dodge | Charger PAB (Non-A).
5 | 2005-2011 | Dodge | Dakota PAB (Non-A).
5 | 2004-2009 | Dodge | Durango PAB (Non-A).
5 | 2004-2008 | Dodge | Ram 1500/2500/3500 Pickup PAB (Non-A).
5 | 2005-2009 | Dodge | Ram 2500 Pickup PAB (Non-A).
5 | 2007-2010 | Dodge | Ram 3500 Cab Chassis PAB (Non-A).
5 | 2006-2009 | Dodge | Ram 3500 Pickup PAB (Non-A).
5 | 2008-2010 | Dodge | Ram 4500/5500 Cab Chassis PAB (Non-A).
5 | 2010-2011 | Ferrari | 458 Italia PAB (A).
5 | 2010-2011 | Ferrari | California PAB (A).
5 | 2007-2009 | Ford | Edge PAB (A).
5 | 2006-2009 | Ford | Fusion PAB (A).
5 | 2007-2009 | Ford | Ranger PAB (A).
5 | 2010-2012 | Freightliner | Sprinter DAB (A).
5 | 2010-2012 | Freightliner | Sprinter DAB (Non-A).
5 | 2010-2011 | Freightliner | Sprinter PAB (A).
5 | 2010-2011 | Freightliner | Sprinter PAB (Non-A).
5 | 2010-2011 | Honda | ACCORD PAB (A).
5 | 2008-2009 | Honda | ACCORD PAB (Non-A).
5 | 2010-2011 | Honda | CIVIC HYBRID PAB (A).
5 | 2006-2009 | Honda | CIVIC HYBRID PAB (Non-A).
5 | 2010-2011 | Honda | CIVIC NGV PAB (A).
5 | 2006-2009 | Honda | CIVIC NGV PAB (Non-A).
5 | 2010-2011 | Honda | CIVIC PAB (A).
5 | 2006-2009 | Honda | CIVIC PAB (Non-A).
5 | 2010-2011 | Honda | CROSSTOUR PAB (A).
5 | 2010-2011 | Honda | CR-V DAB (Non-A).
5 | 2010-2011 | Honda | CR-V PAB (Non-A).
5 | 2011-2015 | Honda | CR-Z DAB (A).
5 | 2010-2011 | Honda | ELEMENT PAB (Non-A).
5 | 2012-2014 | Honda | FCX CLARITY DAB (A).
5 | 2012-2013 | Honda | FIT DAB (A).
5 | 2010-2011 | Honda | FIT DAB (Non-A).
5 | 2013-2014 | Honda | FIT EV DAB (A).
5 | 2007-2011 | Honda | FIT PAB (Non-A).
5 | 2012-2014 | Honda | INSIGHT DAB (A).
5 | 2010-2011 | Honda | INSIGHT DAB (Non-A).
5 | 2010-2011 | Honda | INSIGHT PAB (Non-A).
5 | 2010-2011 | Honda | PILOT PAB (A).
5 | 2009-2009 | Honda | PILOT PAB (Non-A).
5 | 2012-2014 | Honda | RIDGELINE DAB (A).
5 | 2010-2011 | Honda | RIDGELINE DAB (Non-A).
5 | 2010-2011 | Honda | RIDGELINE PAB (Non-A).
5 | 2003-2005 | Infiniti | FX PAB (A).
5 | 2003-2004 | Infiniti | I35 PAB (A).
5 | 2010-2010 | Jaguar | XF PAB (A).
5 | 2007-2012 | Jeep | Wrangler PAB (Non-A).
5 | 2010-2010 | Land Rover | Range Rover PAB (A).
5 | 2007-2008 | Land Rover | Range Rover PAB (Non-A).
5 | 2010-2010 | Lexus | ES350 PAB (A).
5 | 2007-2008 | Lexus | ES350 PAB (Non-A).
5 | 2010-2010 | Lexus | GX460 PAB (A).
5 | 2010-2010 | Lexus | IS F PAB (A).
5 | 2008-2008 | Lexus | IS F PAB (Non-A).
5 | 2010-2010 | Lexus | IS250 PAB (A).
5 | 2006-2008 | Lexus | IS250 PAB (Non-A).
5 | 2010-2010 | Lexus | IS250C PAB (A).
5 | 2010-2010 | Lexus | IS350 PAB (A).
5 | 2006-2008 | Lexus | IS350 PAB (Non-A).
5 | 2010-2010 | Lexus | IS350C PAB (A).
5 | 2007-2009 | Lincoln | MKX PAB (A).
5 | 2006-2009 | Lincoln | Zephyr/MKZ PAB (A).
5 | 2007-2009 | Mazda | B-Series PAB (A).
5 | 2007-2009 | Mazda | CX7 PAB (A).
5 | 2007-2009 | Mazda | CX9 PAB (A).
5 | 2009-2009 | Mazda | Mazda6 PAB (A).
5 | 2003-2008 | Mazda | Mazda6 PAB (Non-A).
5 | 2006-2007 | Mazda | Mazdaspeed6 PAB (Non-A).
5 | 2004-2006 | Mazda | MPV PAB (A).
5 | 2009-2009 | Mazda | RX8 PAB (A).
5 | 2004-2008 | Mazda | RX8 PAB (Non-A).
5 | 2010-2011 | Mercedes-Benz | C-Class DAB (A).
5 | 2005-2009 | Mercedes-Benz | C-Class DAB (Non-A).
5 | 2010-2011 | Mercedes-Benz | C-Class PAB (A).
5 | 2008-2008 | Mercedes-Benz | C-Class PAB (Non-A).
5 | 2011-2011 | Mercedes-Benz | E-Class Cabrio DAB (A).
5 | 2011-2011 | Mercedes-Benz | E-Class Cabrio PAB (A).
5 | 2010-2011 | Mercedes-Benz | E-Class Coupe DAB (A).
5 | 2010-2011 | Mercedes-Benz | E-Class Coupe PAB (A).
5 | 2010-2011 | Mercedes-Benz | E-Class DAB (A).
5 | 2010-2012 | Mercedes-Benz | GL-Class DAB (A).
5 | 2009-2009 | Mercedes-Benz | GL-Class DAB (Non-A).
5 | 2010-2012 | Mercedes-Benz | GLK Class DAB (A).
5 | 2010-2011 | Mercedes-Benz | GLK Class PAB (A).
5 | 2010-2011 | Mercedes-Benz | ML-Class DAB (A).
5 | 2009-2009 | Mercedes-Benz | ML-Class DAB (Non-A).
5 | 2010-2012 | Mercedes-Benz | R-Class DAB (A).
5 | 2009-2009 | Mercedes-Benz | R-Class DAB (Non-A).
5 | 2007-2008 | Mercedes-Benz | SLK-Class DAB (Non-A).
5 | 2011-2014 | Mercedes-Benz | SLS-Class DAB (A).
5 | 2011-2011 | Mercedes-Benz | SLS-Class DAB (Non-A).
5 | 2011-2011 | Mercedes-Benz | SLS-Class PAB (A).
5 | 2010-2012 | Mercedes-Benz | Sprinter DAB (A).
5 | 2010-2012 | Mercedes-Benz | Sprinter DAB (Non-A).
5 | 2010-2011 | Mercedes-Benz | Sprinter PAB (A).
5 | 2010-2011 | Mercedes-Benz | Sprinter PAB (Non-A).
5 | 2006-2009 | Mercury | Milan PAB (A).
5 | 2006-2007 | Mitsubishi | Lancer PAB (Non-A).
5 | 2006-2009 | Mitsubishi | Raider PAB (Non-A).
5 | 2010-2011 | Nissan | Versa Hatchback PAB (A).
5 | 2007-2008 | Nissan | Versa Hatchback PAB (Non-A).
5 | 2010-2011 | Nissan | Versa Sedan PAB (A).
5 | 2007-2008 | Nissan | Versa Sedan PAB (Non-A).
5 | 2010-2010 | Pontiac | Vibe PAB (A).
5 | 2006-2006 | Saab | 9-2X PAB (A).
5 | 2006-2009 | Saab | 9-3 DAB (Non-A).
5 | 2006-2009 | Saab | 9-5 DAB (Non-A).
5 | 2008-2009 | Saturn | Astra DAB (Non-A).
5 | 2010-2010 | Scion | xB PAB (A).
5 | 2008-2008 | Scion | xB PAB (Non-A).
5 | 2006-2006 | Subaru | Baja PAB (A).
5 | 2003-2005 | Subaru | Baja PAB (Non-A).
5 | 2009-2009 | Subaru | Forester PAB (A).
5 | 2006-2009 | Subaru | Impreza PAB (A).
5 | 2009-2009 | Subaru | Legacy PAB (A).
5 | 2003-2004 | Subaru | Legacy PAB (Non-A).
5 | 2009-2009 | Subaru | Outback PAB (A).
5 | 2003-2004 | Subaru | Outback PAB (Non-A).
5 | 2006-2009 | Subaru | Tribeca PAB (A).
5 | 2010-2010 | Toyota | 4Runner PAB (A).
5 | 2010-2010 | Toyota | Corolla Matrix PAB (A).
5 | 2010-2010 | Toyota | Corolla PAB (A).
5 | 2010-2010 | Toyota | Yaris HB PAB (A).
5 | 2007-2008 | Toyota | Yaris HB PAB (Non-A).
5 | 2010-2010 | Toyota | Yaris PAB (A).
5 | 2007-2008 | Toyota | Yaris PAB (Non-A).
5 | 2010-2014 | Volkswagen | CC DAB (A).
5 | 2009-2009 | Volkswagen | CC DAB (Non-A).
5 | 2010-2014 | Volkswagen | Eos DAB (A).
5 | 2010-2014 | Volkswagen | Golf DAB (A).
5 | 2013-2013 | Volkswagen | Golf R DAB (A).
5 | 2010-2013 | Volkswagen | GTI DAB (A).
5 | 2012-2014 | Volkswagen | Passat DAB (A).
5 | 2010-2010 | Volkswagen | Passat Sedan DAB (A).
5 | 2006-2009 | Volkswagen | Passat Sedan DAB (Non-A).
5 | 2010-2010 | Volkswagen | Passat Wagon DAB (A).
6 | 2013-2016 | Acura | ILX DAB (Non-A).
6 | 2013-2014 | Acura | ILX HYBRID DAB (Non-A).
6 | 2010-2016 | Acura | RDX DAB (Non-A).
6 | 2012-2012 | Acura | RL DAB (Non-A).
6 | 2010-2014 | Acura | TL DAB (Non-A).
6 | 2010-2011 | Acura | TSX PAB (Non-A).
6 | 2012-2013 | Acura | ZDX DAB (Non-A).
6 | 2010-2013 | Audi | A3 DAB (Non-A).
6 | 2005-2008 | Audi | A4 Avant PAB (Non-A).
6 | 2007-2008 | Audi | A4 Cabriolet PAB (Non-A).
6 | 2005-2008 | Audi | A4 Sedan PAB (Non-A).
6 | 2010-2012 | Audi | A5 Cabriolet DAB (Non-A).
6 | 2010-2011 | Audi | A6 Avant PAB (A).
6 | 2006-2008 | Audi | A6 Avant PAB (Non-A).
6 | 2010-2011 | Audi | A6 Sedan PAB (A).
6 | 2005-2008 | Audi | A6 Sedan PAB (Non-A).
6 | 2010-2012 | Audi | Audi Q5 DAB (Non-A).
6 | 2008-2008 | Audi | RS 4 Cabriolet PAB (Non-A).
6 | 2007-2008 | Audi | RS 4 Sedan PAB (Non-A).
6 | 2005-2008 | Audi | S4 Avant PAB (Non-A).
6 | 2007-2008 | Audi | S4 Cabriolet PAB (Non-A).
6 | 2005-2008 | Audi | S4 Sedan PAB (Non-A).
6 | 2010-2012 | Audi | S5 Cabriolet DAB (Non-A).
6 | 2010-2011 | Audi | S6 Sedan PAB (A).
6 | 2007-2008 | Audi | S6 Sedan PAB (Non-A).
6 | 2010-2013 | BMW | 1 Series DAB (Non-A).
6 | 2010-2013 | BMW | 3 Series DAB (Non-A).
6 | 2013-2015 | BMW | X1 DAB (Non-A).
6 | 2010-2010 | BMW | X3 DAB (Non-A).
6 | 2012-2013 | BMW | X5 DAB (A).
6 | 2010-2013 | BMW | X5 DAB (Non-A).
6 | 2012-2014 | BMW | X6 DAB (A).
6 | 2010-2014 | BMW | X6 DAB (Non-A).
6 | 2010-2011 | BMW | X6 Hybrid DAB (Non-A).
6 | 2007-2011 | Cadillac | Escalade ESV PAB (A).
6 | 2007-2008 | Cadillac | Escalade ESV PAB (Non-A).
6 | 2007-2011 | Cadillac | Escalade EXT PAB (A).
6 | 2007-2008 | Cadillac | Escalade EXT PAB (Non-A).
6 | 2007-2011 | Cadillac | Escalade PAB (A).
6 | 2007-2008 | Cadillac | Escalade PAB (Non-A).
6 | 2007-2011 | Chevrolet | Avalanche PAB (A).
6 | 2007-2008 | Chevrolet | Avalanche PAB (Non-A).
6 | 2009-2011 | Chevrolet | Silverado HD PAB (A).
6 | 2007-2011 | Chevrolet | Silverado LD PAB (A).
6 | 2007-2008 | Chevrolet | Silverado LD PAB (Non-A).
6 | 2007-2011 | Chevrolet | Suburban PAB (A).
6 | 2007-2008 | Chevrolet | Suburban PAB (Non-A).
6 | 2007-2011 | Chevrolet | Tahoe PAB (A).
6 | 2007-2008 | Chevrolet | Tahoe PAB (Non-A).
6 | 2010-2011 | Ferrari | 458 Italia PAB (Non-A).
6 | 2009-2011 | Ferrari | California PAB (Non-A).
6 | 2010-2010 | Ford | Edge PAB (A).
6 | 2007-2008 | Ford | Edge PAB (Non-A).
6 | 2010-2011 | Ford | Fusion PAB (A).
6 | 2006-2008 | Ford | Fusion PAB (Non-A).
6 | 2010-2011 | Ford | Ranger PAB (A).
6 | 2007-2008 | Ford | Ranger PAB (Non-A).
6 | 2013-2014 | Freightliner | Sprinter DAB (A).
6 | 2013-2014 | Freightliner | Sprinter DAB (Non-A).
6 | 2009-2011 | GMC | Sierra HD PAB (A).
6 | 2007-2011 | GMC | Sierra LD PAB (A).
6 | 2007-2008 | GMC | Sierra LD PAB (Non-A).
6 | 2007-2011 | GMC | Yukon PAB (A).
6 | 2007-2008 | GMC | Yukon PAB (Non-A).
6 | 2007-2011 | GMC | Yukon XL PAB (A).
6 | 2007-2008 | GMC | Yukon XL PAB (Non-A).
6 | 2010-2011 | Honda | ACCORD PAB (Non-A).
6 | 2010-2011 | Honda | CIVIC HYBRID PAB (Non-A).
6 | 2010-2011 | Honda | CIVIC NGV PAB (Non-A).
6 | 2010-2011 | Honda | CIVIC PAB (Non-A).
6 | 2010-2011 | Honda | CROSSTOUR PAB (Non-A).
6 | 2011-2015 | Honda | CR-Z DAB (Non-A).
6 | 2012-2013 | Honda | FIT DAB (Non-A).
6 | 2013-2014 | Honda | FIT EV DAB (Non-A).
6 | 2012-2014 | Honda | INSIGHT DAB (Non-A).
6 | 2010-2011 | Honda | PILOT PAB (Non-A).
6 | 2012-2014 | Honda | RIDGELINE DAB (Non-A).
6 | 2006-2008 | Infiniti | FX PAB (A).
6 | 2003-2008 | Infiniti | FX PAB (Non-A).
6 | 2003-2004 | Infiniti | I35 PAB (Non-A).
6 | 2006-2010 | Infiniti | M PAB (A).
6 | 2006-2008 | Infiniti | M PAB (Non-A).
6 | 2011-2011 | Jaguar | XF PAB (A).
6 | 2011-2011 | Land Rover | Range Rover PAB (A).
6 | 2011-2011 | Lexus | ES350 PAB (A).
6 | 2011-2011 | Lexus | GX460 PAB (A).
6 | 2011-2011 | Lexus | IS F PAB (A).
6 | 2011-2011 | Lexus | IS250 PAB (A).
6 | 2011-2011 | Lexus | IS250C PAB (A).
6 | 2011-2011 | Lexus | IS350 PAB (A).
6 | 2011-2011 | Lexus | IS350C PAB (A).
6 | 2010-2010 | Lincoln | MKX PAB (A).
6 | 2007-2008 | Lincoln | MKX PAB (Non-A).
6 | 2010-2011 | Lincoln | Zephyr/MKZ PAB (A).
6 | 2006-2008 | Lincoln | Zephyr/MKZ PAB (Non-A).
6 | 2007-2008 | Mazda | B-Series PAB (Non-A).
6 | 2010-2011 | Mazda | CX7 PAB (A).
6 | 2007-2008 | Mazda | CX7 PAB (Non-A).
6 | 2010-2011 | Mazda | CX9 PAB (A).
6 | 2007-2008 | Mazda | CX9 PAB (Non-A).
6 | 2010-2011 | Mazda | Mazda6 PAB (A).
6 | 2004-2006 | Mazda | MPV PAB (Non-A).
6 | 2010-2011 | Mazda | RX8 PAB (A).
6 | 2010-2011 | Mercedes-Benz | C-Class DAB (Non-A).
6 | 2011-2011 | Mercedes-Benz | E-Class Cabrio DAB (A).
6 | 2010-2011 | Mercedes-Benz | E-Class Coupe DAB (Non-A).
6 | 2010-2011 | Mercedes-Benz | E-Class DAB (Non-A).
6 | 2010-2012 | Mercedes-Benz | GL-Class DAB (Non-A).
6 | 2010-2012 | Mercedes-Benz | GLK Class DAB (Non-A).
6 | 2010-2011 | Mercedes-Benz | ML-Class DAB (Non-A).
6 | 2010-2012 | Mercedes-Benz | R-Class DAB (Non-A).
6 | 2012-2014 | Mercedes-Benz | SLS-Class DAB (Non-A).
6 | 2013-2014 | Mercedes-Benz | Sprinter DAB (A).
6 | 2013-2014 | Mercedes-Benz | Sprinter DAB (Non-A).
6 | 2010-2011 | Mercury | Milan PAB (A).
6 | 2006-2008 | Mercury | Milan PAB (Non-A).
6 | 2006-2006 | Saab | 9-2X PAB (Non-A).
6 | 2010-2011 | Saab | 9-3 DAB (A).
6 | 2010-2011 | Saab | 9-3 DAB (Non-A).
6 | 2011-2011 | Scion | xB PAB (A).
6 | 2003-2004, 2006 | Subaru | Baja PAB (Non-A).
6 | 2010-2011 | Subaru | Forester PAB (A).
6 | 2010-2011 | Subaru | Impreza PAB (A).
6 | 2006-2008 | Subaru | Impreza PAB (Non-A).
6 | 2010-2011 | Subaru | Legacy PAB (A).
6 | 2003-2004 | Subaru | Legacy PAB (Non-A).
6 | 2010-2011 | Subaru | Outback PAB (A).
6 | 2003-2004 | Subaru | Outback PAB (Non-A).
6 | 2010-2011 | Subaru | Tribeca PAB (A).
6 | 2006-2008 | Subaru | Tribeca PAB (Non-A).
6 | 2011-2011 | Toyota | 4Runner PAB (A).
6 | 2011-2011 | Toyota | Corolla Matrix PAB (A).
6 | 2011-2011 | Toyota | Corolla PAB (A).
6 | 2011-2011 | Toyota | Sienna PAB (A).
6 | 2011-2011 | Toyota | Yaris HB PAB (A).
6 | 2011-2011 | Toyota | Yaris PAB (A).
6 | 2010-2014 | Volkswagen | CC DAB (Non-A).
6 | 2010-2014 | Volkswagen | Eos DAB (Non-A).
6 | 2010-2014 | Volkswagen | Golf DAB (Non-A).
6 | 2011-2013 | Volkswagen | GTI DAB (Non-A).
6 | 2012-2014 | Volkswagen | Passat DAB (Non-A).
6 | 2010-2010 | Volkswagen | Passat Sedan DAB (Non-A).
6 | 2006-2008 | Volkswagen | Passat Wagon DAB (Non-A).
6 | 2010-2010 | Volkswagen | Passat Wagon DAB (Non-A).
7 | 2012-2012 | Acura | RL PAB (A).
7 | 2012-2012 | Acura | TSX PAB (A).
7 | 2012-2012 | Acura | ZDX PAB (A).
7 | 2012-2012 | BMW | X5 PAB (A).
7 | 2012-2012 | BMW | X6 PAB (A).
7 | 2012-2012 | Cadillac | Escalade ESV PAB (A).
7 | 2012-2012 | Cadillac | Escalade EXT PAB (A).
7 | 2012-2012 | Cadillac | Escalade PAB (A).
7 | 2012-2012 | Chevrolet | Avalanche PAB (A).
7 | 2012-2012 | Chevrolet | Silverado HD PAB (A).
7 | 2012-2012 | Chevrolet | Silverado LD PAB (A).
7 | 2012-2012 | Chevrolet | Suburban PAB (A).
7 | 2012-2012 | Chevrolet | Tahoe PAB (A).
7 | 2012-2012 | Ferrari | 458 Italia PAB (A).
7 | 2012-2012 | Ferrari | 458 Spider PAB (A).
7 | 2012-2012 | Ferrari | California PAB (A).
7 | 2012-2012 | Ferrari | FF PAB (A).
7 | 2012-2012 | Fisker | Karma PAB (A).
7 | 2012-2012 | Ford | Fusion PAB (A).
7 | 2012-2012 | Ford | Mustang PAB (A).
7 | 2012-2012 | GMC | Sierra HD PAB (A).
7 | 2012-2012 | GMC | Sierra LD PAB (A).
7 | 2012-2012 | GMC | Yukon PAB (A).
7 | 2012-2012 | GMC | Yukon XL PAB (A).
7 | 2012-2012 | Honda | ACCORD PAB (A).
7 | 2012-2012 | Honda | CROSSTOUR PAB (A).
7 | 2012-2012 | Honda | FCX CLARITY PAB (A).
7 | 2012-2012 | Honda | FIT PAB (A).
7 | 2012-2012 | Honda | INSIGHT PAB (A).
7 | 2012-2012 | Honda | PILOT PAB (A).
7 | 2012-2012 | Honda | RIDGELINE PAB (A).
7 | 2012-2012 | Jaguar | XF PAB (A).
7 | 2012-2012 | Land Rover | Range Rover PAB (A).
7 | 2012-2012 | Lexus | ES350 PAB (A).
7 | 2012-2012 | Lexus | GX460 PAB (A).
7 | 2012-2012 | Lexus | IS250/350 PAB (A).
7 | 2012-2012 | Lexus | IS250C/350C PAB (A).
7 | 2012-2012 | Lexus | IS-F PAB (A).
7 | 2012-2012 | Lexus | LFA PAB (A).
7 | 2012-2012 | Lincoln | Zephyr/MKZ PAB (A).
7 | 2012-2012 | Mazda | CX7 PAB (A).
7 | 2012-2012 | Mazda | CX9 PAB (A).
7 | 2012-2012 | McLaren | MP4-12C PAB (A).
7 | 2011-2011 | McLaren | P1TM PAB (A).
7 | 2012-2012 | Mercedes-Benz | C-Class PAB (A).
7 | 2012-2012 | Mercedes-Benz | E-Class Cabrio PAB (A).
7 | 2012-2012 | Mercedes-Benz | E-Class Coupe PAB (A).
7 | 2012-2012 | Mercedes-Benz | GLK Class PAB (A).
7 | 2012-2012 | Mercedes-Benz | SLS-Class PAB (A).
7 | 2012, 2014 | Mitsubishi | i-MiEV PAB (A).
7 | 2012-2012 | Nissan | Versa PAB (A).
7 | 2012-2012 | Scion | xB PAB (A).
7 | 2012-2012 | Subaru | Forester PAB (A).
7 | 2012-2012 | Subaru | Legacy PAB (A).
7 | 2012-2012 | Subaru | Outback PAB (A).
7 | 2012-2012 | Subaru | Tribeca PAB (A).
7 | 2012-2012 | Subaru | WRX/STI PAB (A).
7 | 2012-2012 | Tesla | Model S PAB (A).
7 | 2012-2012 | Toyota | 4Runner PAB (A).
7 | 2012-2012 | Toyota | Corolla PAB (A).
7 | 2012-2012 | Toyota | Matrix PAB (A).
7 | 2012-2012 | Toyota | Sienna PAB (A).
7 | 2012-2012 | Toyota | Yaris (Sedan) PAB (A).
8 | 2006-2006 | Acura | MDX PAB (C).
8 | 2009-2009 | Acura | RL PAB (B).
8 | 2010-2010 | Acura | RL PAB (B).
8 | 2006-2008 | Acura | RL PAB (C).
8 | 2009-2009 | Acura | RL PAB (C).
8 | 2009-2009 | Acura | TSX PAB (B).
8 | 2005-2008 | Audi | A4 Avant PAB (C).
8 | 2009-2009 | Audi | A4 Cabriolet PAB (B).
8 | 2007-2008 | Audi | A4 Cabriolet PAB (C).
8 | 2005-2008 | Audi | A4 Sedan PAB (C).
8 | 2009-2009 | Audi | A6 Avant PAB (B).
8 | 2006-2008 | Audi | A6 Avant PAB (C).
8 | 2009-2009 | Audi | A6 Sedan PAB (B).
8 | 2005-2008 | Audi | A6 Sedan PAB (C).
8 | 2008-2008 | Audi | RS 4 Cabriolet PAB (C).
8 | 2007-2008 | Audi | RS 4 Sedan PAB (C).
8 | 2005-2008 | Audi | S4 Avant PAB (C).
8 | 2009-2009 | Audi | S4 Cabriolet PAB (B).
8 | 2007-2009 | Audi | S4 Cabriolet PAB (C).
8 | 2005-2008 | Audi | S4 Sedan PAB (C).
8 | 2009-2009 | Audi | S6 Sedan PAB (B).
8 | 2007-2008 | Audi | S6 Sedan PAB (C).
8 | 2009-2009 | BMW | X5 PAB (B).
8 | 2007-2008 | BMW | X5 PAB (C).
8 | 2009-2009 | BMW | X6 PAB (B).
8 | 2008-2008 | BMW | X6 PAB (C).
8 | 2009-2009 | Cadillac | Escalade ESV PAB (B).
8 | 2007-2008 | Cadillac | Escalade ESV PAB (C).
8 | 2009-2009 | Cadillac | Escalade EXT PAB (B).
8 | 2007-2008 | Cadillac | Escalade EXT PAB (C).
8 | 2009-2009 | Cadillac | Escalade PAB (B).
8 | 2007-2008 | Cadillac | Escalade PAB (C).
8 | 2009-2009 | Chevrolet | Avalanche PAB (B).
8 | 2007-2008 | Chevrolet | Avalanche PAB (C).
8 | 2009-2009 | Chevrolet | Silverado HD PAB (B).
8 | 2009-2009 | Chevrolet | Silverado LD PAB (B).
8 | 2007-2008 | Chevrolet | Silverado LD PAB (C).
8 | 2009-2009 | Chevrolet | Suburban PAB (B).
8 | 2007-2008 | Chevrolet | Suburban PAB (C).
8 | 2009-2009 | Chevrolet | Tahoe PAB (B).
8 | 2007-2008 | Chevrolet | Tahoe PAB (C).
8 | 2012-2012 | Ferrari | 458 Italia PAB (B).
8 | 2012-2012 | Ferrari | 458 Italia PAB (C).
8 | 2012-2012 | Ferrari | 458 Spider PAB (B).
8 | 2012-2012 | Ferrari | 458 Spider PAB (C).
8 | 2012-2012 | Ferrari | California PAB (B).
8 | 2012-2012 | Ferrari | California PAB (C).
8 | 2012-2012 | Ferrari | FF PAB (B).
8 | 2012-2012 | Ferrari | FF PAB (C).
8 | 2009-2009 | Ford | Edge PAB (B).
8 | 2007-2008 | Ford | Edge PAB (C).
8 | 2009-2009 | Ford | Fusion PAB (B).
8 | 2006-2008 | Ford | Fusion PAB (C).
8 | 2005-2006 | Ford | GT PAB (C).
8 | 2009-2009 | Ford | Mustang PAB (B).
8 | 2005-2008 | Ford | Mustang PAB (C).
8 | 2009-2009 | Ford | Ranger PAB (B).
8 | 2007-2008 | Ford | Ranger PAB (C).
8 | 2009-2009 | Freightliner | Sprinter PAB (B).
8 | 2007-2008 | Freightliner | Sprinter PAB (C).
8 | 2009-2009 | GMC | Sierra HD PAB (B).
8 | 2009-2009 | GMC | Sierra LD PAB (B).
8 | 2007-2008 | GMC | Sierra LD PAB (C).
8 | 2009-2009 | GMC | Yukon PAB (B).
8 | 2007-2008 | GMC | Yukon PAB (C).
8 | 2009-2009 | GMC | Yukon XL PAB (B).
8 | 2007-2008 | GMC | Yukon XL PAB (C).
8 | 2009-2009 | Honda | ACCORD PAB (B).
8 | 2008-2008 | Honda | ACCORD PAB (C).
8 | 2009-2009 | Honda | CIVIC HYBRID PAB (B).
8 | 2006-2008 | Honda | CIVIC HYBRID PAB (C).
8 | 2009-2009 | Honda | CIVIC NGV PAB (B).
8 | 2006-2008 | Honda | CIVIC NGV PAB (C).
8 | 2009-2009 | Honda | CIVIC PAB (B).
8 | 2006-2008 | Honda | CIVIC PAB (C).
8 | 2009-2009 | Honda | CR-V PAB (B).
8 | 2006-2008 | Honda | CR-V PAB (C).
8 | 2009-2009 | Honda | ELEMENT PAB (B).
8 | 2005-2008 | Honda | ELEMENT PAB (C).
8 | 2009-2009 | Honda | FIT PAB (B).
8 | 2007-2008 | Honda | FIT PAB (C).
8 | 2009-2009 | Honda | PILOT PAB (B).
8 | 2006-2008 | Honda | PILOT PAB (C).
8 | 2009-2009 | Honda | RIDGELINE PAB (B).
8 | 2007-2008 | Honda | RIDGELINE PAB (C).
8 | 2006-2008 | Infiniti | FX PAB (C).
8 | 2009-2009 | Infiniti | M PAB (B).
8 | 2008-2008 | Infiniti | M PAB (C).
8 | 2009-2009 | Jaguar | XF PAB (B).
8 | 2009-2009 | Land Rover | Range Rover PAB (B).
8 | 2007-2008 | Land Rover | Range Rover PAB (C).
8 | 2009-2009 | Lexus | ES350 PAB (B).
8 | 2007-2008 | Lexus | ES350 PAB (C).
8 | 2009-2009 | Lexus | IS250/350 PAB (B).
8 | 2006-2008 | Lexus | IS250/350 PAB (C).
8 | 2009-2009 | Lexus | IS-F PAB (B).
8 | 2008-2008 | Lexus | IS-F PAB (C).
8 | 2009-2009 | Lincoln | MKX PAB (B).
8 | 2007-2008 | Lincoln | MKX PAB (C).
8 | 2009-2009 | Lincoln | Zephyr/MKZ PAB (B).
8 | 2006-2008 | Lincoln | Zephyr/MKZ PAB (C).
8 | 2009-2009 | Mazda | B-Series PAB (B).
8 | 2007-2008 | Mazda | B-Series PAB (C).
8 | 2009-2009 | Mazda | CX7 PAB (B).
8 | 2007-2008 | Mazda | CX7 PAB (C).
8 | 2009-2009 | Mazda | CX9 PAB (B).
8 | 2007-2008 | Mazda | CX9 PAB (C).
8 | 2009-2009 | Mazda | Mazda6 PAB (B).
8 | 2005-2006 | Mazda | MPV PAB (C).
8 | 2009-2009 | Mazda | RX8 PAB (B).
8 | 2012-2012 | McLaren | MP4-12C PAB (B).
8 | 2012-2012 | McLaren | MP4-12C PAB (C).
8 | 2008-2008 | Mercedes-Benz | C-Class PAB (C).
8 | 2009-2009 | Mercury | Milan PAB (B).
8 | 2006-2008 | Mercury | Milan PAB (C).
8 | 2012, 2014 | Mitsubishi | i-MiEV PAB (B).
8 | 2012, 2014 | Mitsubishi | i-MiEV PAB (C).
8 | 2009-2009 | Nissan | Versa PAB (B).
8 | 2008-2008 | Nissan | Versa PAB (C).
8 | 2009-2009 | Pontiac | Vibe PAB (B).
8 | 2006-2006 | Saab | 9-2x PAB (C).
8 | 2009-2009 | Scion | xB PAB (B).
8 | 2008-2008 | Scion | xB PAB (C).
8 | 2005-2006 | Subaru | Baja PAB (C).
8 | 2009-2009 | Subaru | Forester PAB (B).
8 | 2009-2009 | Subaru | Impreza PAB (B).
8 | 2006-2008 | Subaru | Impreza PAB (C).
8 | 2009-2009 | Subaru | Legacy PAB (B).
8 | 2009-2009 | Subaru | Outback PAB (B).
8 | 2009-2009 | Subaru | Tribeca PAB (B).
8 | 2006-2008 | Subaru | Tribeca PAB (C).
8 | 2009-2009 | Toyota | Corolla PAB (B).
8 | 2009-2009 | Toyota | Matrix PAB (B).
8 | 2009-2009 | Toyota | Yaris (Hatch Back) PAB (B).
8 | 2007-2008 | Toyota | Yaris (Hatch Back) PAB (C).
8 | 2009-2009 | Toyota | Yaris (Sedan) PAB (B).
8 | 2007-2008 | Toyota | Yaris (Sedan) PAB (C).
9 | 2011-2012 | Acura | RL PAB (B).
9 | 2010-2012 | Acura | RL PAB (C).
9 | 2013-2013 | Acura | TSX PAB (A).
9 | 2014-2014 | Acura | TSX PAB (A).
9 | 2010-2010 | Acura | TSX PAB (B).
9 | 2011-2014 | Acura | TSX PAB (B).
9 | 2009-2009 | Acura | TSX PAB (C).
9 | 2013-2013 | Acura | ZDX PAB (A).
9 | 2010-2010 | Acura | ZDX PAB (B).
9 | 2009-2009 | Audi | A4 Cabriolet PAB (C).
9 | 2010-2010 | Audi | A6 Avant PAB (B).
9 | 2009-2009 | Audi | A6 Avant PAB (C).
9 | 2010-2010 | Audi | A6 Sedan PAB (B).
9 | 2009-2009 | Audi | A6 Sedan PAB (C).
9 | 2010-2010 | Audi | S6 Sedan PAB (B).
9 | 2009-2009 | Audi | S6 Sedan PAB (C).
9 | 2013-2013 | BMW | X5 PAB (A).
9 | 2010-2010 | BMW | X5 PAB (B).
9 | 2009-2011 | BMW | X5 PAB (C).
9 | 2010-2010 | BMW | X6 Hybrid PAB (B).
9 | 2013-2013 | BMW | X6 PAB (A).
9 | 2010-2010 | BMW | X6 PAB (B).
9 | 2009-2009 | BMW | X6 PAB (C).
9 | 2013-2013 | Cadillac | Escalade ESV PAB (A).
9 | 2010-2010 | Cadillac | Escalade ESV PAB (B).
9 | 2009-2009 | Cadillac | Escalade ESV PAB (C).
9 | 2013-2013 | Cadillac | Escalade EXT PAB (A).
9 | 2010-2010 | Cadillac | Escalade EXT PAB (B).
9 | 2009-2009 | Cadillac | Escalade EXT PAB (C).
9 | 2013-2013 | Cadillac | Escalade PAB (A).
9 | 2010-2010 | Cadillac | Escalade PAB (B).
9 | 2009-2009 | Cadillac | Escalade PAB (C).
9 | 2013-2013 | Chevrolet | Avalanche PAB (A).
9 | 2010-2010 | Chevrolet | Avalanche PAB (B).
9 | 2009-2009 | Chevrolet | Avalanche PAB (C).
9 | 2013-2013 | Chevrolet | Silverado HD PAB (A).
9 | 2010-2010 | Chevrolet | Silverado HD PAB (B).
9 | 2009-2009 | Chevrolet | Silverado HD PAB (C).
9 | 2013-2013 | Chevrolet | Silverado LD PAB (A).
9 | 2010-2010 | Chevrolet | Silverado LD PAB (B).
9 | 2009-2009 | Chevrolet | Silverado LD PAB (C).
9 | 2013-2013 | Chevrolet | Suburban PAB (A).
9 | 2010-2010 | Chevrolet | Suburban PAB (B).
9 | 2009-2009 | Chevrolet | Suburban PAB (C).
9 | 2013-2013 | Chevrolet | Tahoe PAB (A).
9 | 2010-2010 | Chevrolet | Tahoe PAB (B).
9 | 2009-2009 | Chevrolet | Tahoe PAB (C).
9 | 2013-2013 | Chrysler | 300 PAB (A).
9 | 2010-2010 | Chrysler | 300 PAB (B).
9 | 2009-2009 | Chrysler | 300 PAB (C).
9 | 2009-2009 | Chrysler | Aspen PAB (C).
9 | 2013-2013 | Dodge | Challenger PAB (A).
9 | 2010-2010 | Dodge | Challenger PAB (B).
9 | 2009-2009 | Dodge | Challenger PAB (C).
9 | 2013-2013 | Dodge | Charger PAB (A).
9 | 2010-2010 | Dodge | Charger PAB (B).
9 | 2009-2009 | Dodge | Charger PAB (C).
9 | 2010-2010 | Dodge | Dakota PAB (B).
9 | 2009-2009 | Dodge | Dakota PAB (C).
9 | 2009-2009 | Dodge | Durango PAB (C).
9 | 2009-2009 | Dodge | Ram 2500 Pickup PAB (C).
9 | 2010-2010 | Dodge | Ram 3500 Cab Chassis PAB (B).
9 | 2009-2009 | Dodge | Ram 3500 Cab Chassis PAB (C).
9 | 2009-2009 | Dodge | Ram 3500 Pickup PAB (C).
9 | 2010-2010 | Dodge | Ram 4500/5500 Cab Chassis PAB (B).
9 | 2009-2009 | Dodge | Ram 4500/5500 Cab Chassis PAB (C).
9 | 2013-2013 | Ferrari | 458 Italia PAB (A).
9 | 2013-2013 | Ferrari | 458 Italia PAB (B).
9 | 2013-2013 | Ferrari | 458 Italia PAB (C).
9 | 2013-2013 | Ferrari | 458 Spider PAB (A).
9 | 2013-2013 | Ferrari | 458 Spider PAB (B).
9 | 2013-2013 | Ferrari | 458 Spider PAB (C).
9 | 2013-2013 | Ferrari | California PAB (A).
9 | 2013-2013 | Ferrari | California PAB (B).
9 | 2013-2013 | Ferrari | California PAB (C).
9 | 2013-2013 | Ferrari | F12 PAB (A).
9 | 2013-2013 | Ferrari | F12 PAB (B).
9 | 2013-2013 | Ferrari | F12 PAB (C).
9 | 2013-2013 | Ferrari | FF PAB (A).
9 | 2013-2013 | Ferrari | FF PAB (B).
9 | 2013-2013 | Ferrari | FF PAB (C).
9 | 2010-2010 | Ford | Edge PAB (B).
9 | 2009-2009 | Ford | Edge PAB (C).
9 | 2010-2010 | Ford | Fusion PAB (B).
9 | 2009-2009 | Ford | Fusion PAB (C).
9 | 2013-2013 | Ford | Mustang PAB (A).
9 | 2010-2010 | Ford | Mustang PAB (B).
9 | 2009-2009 | Ford | Mustang PAB (C).
9 | 2010-2010 | Ford | Ranger PAB (B).
9 | 2009-2009 | Ford | Ranger PAB (C).
9 | 2010-2010 | Freightliner | Sprinter PAB (B).
9 | 2009-2009 | Freightliner | Sprinter PAB (C).
9 | 2013-2013 | GMC | Sierra HD PAB (A).
9 | 2010-2010 | GMC | Sierra HD PAB (B).
9 | 2009-2009 | GMC | Sierra HD PAB (C).
9 | 2013-2013 | GMC | Sierra LD PAB (A).
9 | 2010-2010 | GMC | Sierra LD PAB (B).
9 | 2009-2009 | GMC | Sierra LD PAB (C).
9 | 2013-2013 | GMC | Yukon PAB (A).
9 | 2010-2010 | GMC | Yukon PAB (B).
9 | 2009-2009 | GMC | Yukon PAB (C).
9 | 2013-2013 | GMC | Yukon XL PAB (A).
9 | 2010-2010 | GMC | Yukon XL PAB (B).
9 | 2009-2009 | GMC | Yukon XL PAB (C).
9 | 2010-2010 | Honda | ACCORD PAB (B).
9 | 2009-2009 | Honda | ACCORD PAB (C).
9 | 2010-2010 | Honda | CIVIC HYBRID PAB (B).
9 | 2009-2009 | Honda | CIVIC HYBRID PAB (C).
9 | 2010-2010 | Honda | CIVIC NGV PAB (B).
9 | 2009-2009 | Honda | CIVIC NGV PAB (C).
9 | 2010-2010 | Honda | CIVIC PAB (B).
9 | 2009-2009 | Honda | CIVIC PAB (C).
9 | 2013-2013 | Honda | CROSSTOUR PAB (A).
9 | 2010-2010 | Honda | CROSSTOUR PAB (B).
9 | 2010-2010 | Honda | CR-V PAB (B).
9 | 2009-2009 | Honda | CR-V PAB (C).
9 | 2010-2010 | Honda | ELEMENT PAB (B).
9 | 2009-2009 | Honda | ELEMENT PAB (C).
9 | 2013-2013 | Honda | FCX CLARITY PAB (A).
9 | 2013-2013 | Honda | FIT EV PAB (A).
9 | 2013-2013 | Honda | FIT PAB (A).
9 | 2010-2010 | Honda | FIT PAB (B).
9 | 2009-2009 | Honda | FIT PAB (C).
9 | 2013-2013 | Honda | INSIGHT PAB (A).
9 | 2010-2010 | Honda | INSIGHT PAB (B).
9 | 2013-2013 | Honda | PILOT PAB (A).
9 | 2010-2010 | Honda | PILOT PAB (B).
9 | 2009-2009 | Honda | PILOT PAB (C).
9 | 2013-2013 | Honda | RIDGELINE PAB (A).
9 | 2010-2010 | Honda | RIDGELINE PAB (B).
9 | 2009-2009 | Honda | RIDGELINE PAB (C).
9 | 2010-2010 | Infiniti | M PAB (B).
9 | 2009-2009 | Infiniti | M PAB (C).
9 | 2013-2013 | Jaguar | XF PAB (A).
9 | 2010-2010 | Jaguar | XF PAB (B).
9 | 2009-2009 | Jaguar | XF PAB (C).
9 | 2013-2013 | Jeep | Wrangler PAB (A).
9 | 2010-2010 | Jeep | Wrangler PAB (B).
9 | 2009-2009 | Jeep | Wrangler PAB (C).
9 | 2010-2010 | Land Rover | Range Rover PAB (B).
9 | 2009-2009 | Land Rover | Range Rover PAB (C).
9 | 2010-2010 | Lexus | ES350 PAB (B).
9 | 2009-2009 | Lexus | ES350 PAB (C).
9 | 2013-2013 | Lexus | GX460 PAB (A).
9 | 2010-2010 | Lexus | GX460 PAB (B).
9 | 2013-2013 | Lexus | IS250/350 PAB (A).
9 | 2010-2010 | Lexus | IS250/350 PAB (B).
9 | 2009-2009 | Lexus | IS250/350 PAB (C).
9 | 2013-2013 | Lexus | IS250C/350C PAB (A).
9 | 2010-2010 | Lexus | IS250C/350C PAB (B).
9 | 2013-2013 | Lexus | IS-F PAB (A).
9 | 2010-2010 | Lexus | IS-F PAB (B).
9 | 2009-2009 | Lexus | IS-F PAB (C).
9 | 2010-2010 | Lincoln | MKX PAB (B).
9 | 2009-2009 | Lincoln | MKX PAB (C).
9 | 2010-2010 | Lincoln | Zephyr/MKZ PAB (B).
9 | 2009-2009 | Lincoln | Zephyr/MKZ PAB (C).
9 | 2009-2009 | Mazda | B-Series PAB (C).
9 | 2010-2010 | Mazda | CX7 PAB (B).
9 | 2009-2009 | Mazda | CX7 PAB (C).
9 | 2013-2013 | Mazda | CX9 PAB (A).
9 | 2010-2010 | Mazda | CX9 PAB (B).
9 | 2009-2009 | Mazda | CX9 PAB (C).
9 | 2010-2010 | Mazda | Mazda6 PAB (B).
9 | 2009-2009 | Mazda | Mazda6 PAB (C).
9 | 2010-2010 | Mazda | RX8 PAB (B).
9 | 2009-2009 | Mazda | RX8 PAB (C).
9 | 2013-2013 | McLaren | MP4-12C PAB (A).
9 | 2013-2013 | McLaren | MP4-12C PAB (B).
9 | 2013-2013 | McLaren | MP4-12C PAB (C).
9 | 2013-2013 | McLaren | P1TM PAB (A).
9 | 2013-2013 | Mercedes-Benz | C-Class PAB (A).
9 | 2010-2010 | Mercedes-Benz | C-Class PAB (B).
9 | 2009-2009 | Mercedes-Benz | C-Class PAB (C).
9 | 2013-2013 | Mercedes-Benz | E-Class Cabrio PAB (A).
9 | 2013-2013 | Mercedes-Benz | E-Class Coupe PAB (A).
9 | 2010-2010 | Mercedes-Benz | E-Class Coupe PAB (B).
9 | 2013-2013 | Mercedes-Benz | GLK Class PAB (A).
9 | 2010-2010 | Mercedes-Benz | GLK Class PAB (B).
9 | 2013-2013 | Mercedes-Benz | SLS-Class PAB (A).
9 | 2010-2010 | Mercedes-Benz | Sprinter PAB (B).
9 | 2010-2010 | Mercury | Milan PAB (B).
9 | 2009-2009 | Mercury | Milan PAB (C).
9 | 2009-2009 | Mitsubishi | Raider PAB (C).
9 | 2010-2010 | Nissan | Versa PAB (B).
9 | 2009-2009 | Nissan | Versa PAB (C).
9 | 2010-2010 | Pontiac | Vibe PAB (B).
9 | 2009-2009 | Pontiac | Vibe PAB (C).
9 | 2013-2013 | Scion | xB PAB (A).
9 | 2010-2010 | Scion | xB PAB (B).
9 | 2009-2009 | Scion | xB PAB (C).
9 | 2013-2013 | Subaru | Forester PAB (A).
9 | 2010-2010 | Subaru | Forester PAB (B).
9 | 2009-2009 | Subaru | Forester PAB (C).
9 | 2010-2010 | Subaru | Impreza PAB (B).
9 | 2009-2009 | Subaru | Impreza PAB (C).
9 | 2013-2013 | Subaru | Legacy PAB (A).
9 | 2010-2010 | Subaru | Legacy PAB (B).
9 | 2009-2009 | Subaru | Legacy PAB (C).
9 | 2013-2013 | Subaru | Outback PAB (A).
9 | 2010-2010 | Subaru | Outback PAB (B).
9 | 2009-2009 | Subaru | Outback PAB (C).
9 | 2013-2013 | Subaru | Tribeca PAB (A).
9 | 2010-2010 | Subaru | Tribeca PAB (B).
9 | 2009-2009 | Subaru | Tribeca PAB (C).
9 | 2013-2013 | Subaru | WRX/STI PAB (A).
9 | 2013-2013 | Tesla | Model S PAB (A).
9 | 2013-2013 | Toyota | 4Runner PAB (A).
9 | 2010-2010 | Toyota | 4Runner PAB (B).
9 | 2013-2013 | Toyota | Corolla PAB (A).
9 | 2010-2010 | Toyota | Corolla PAB (B).
9 | 2009-2009 | Toyota | Corolla PAB (C).
9 | 2013-2013 | Toyota | Matrix PAB (A).
9 | 2010-2010 | Toyota | Matrix PAB (B).
9 | 2009-2009 | Toyota | Matrix PAB (C).
9 | 2013-2013 | Toyota | Sienna PAB (A).
9 | 2010-2010 | Toyota | Yaris (Hatch Back) PAB (B).
9 | 2009-2009 | Toyota | Yaris (Hatch Back) PAB (C).
9 | 2010-2010 | Toyota | Yaris (Sedan) PAB (B).
9 | 2009-2009 | Toyota | Yaris (Sedan) PAB (C).
10 | 2010-2014 | Acura | TSX PAB (C).
10 | 2011-2013 | Acura | ZDX PAB (B).
10 | 2010-2013 | Acura | ZDX PAB (C).
10 | 2011-2011 | Audi | A6 Avant PAB (B).
10 | 2010-2011 | Audi | A6 Avant PAB (C).
10 | 2011-2011 | Audi | A6 Sedan PAB (B).
10 | 2010-2011 | Audi | A6 Sedan PAB (C).
10 | 2017-2017 | Audi | R8 DAB (A).
10 | 2017-2017 | Audi | R8 DAB (B).
10 | 2017-2017 | Audi | R8 DAB (C).
10 | 2011-2011 | Audi | S6 Sedan PAB (B).
10 | 2010-2011 | Audi | S6 Sedan PAB (C).
10 | 2016-2017 | Audi | TT DAB (A).
10 | 2016-2017 | Audi | TT DAB (B).
10 | 2016-2017 | Audi | TT DAB (C).
10 | 2015-2015 | BMW | X1 DAB (A).
10 | 2015-2015 | BMW | X1 DAB (B).
10 | 2015-2015 | BMW | X1 DAB (C).
10 | 2011-2013 | BMW | X5 PAB (B).
10 | 2012-2013 | BMW | X5 PAB (C).
10 | 2011-2011 | BMW | X6 Hybrid PAB (B).
10 | 2010-2011 | BMW | X6 Hybrid PAB (C).
10 | 2014-2014 | BMW | X6 PAB (A).
10 | 2011-2014 | BMW | X6 PAB (B).
10 | 2010-2014 | BMW | X6 PAB (C).
10 | 2014-2014 | Cadillac | Escalade ESV PAB (A).
10 | 2011-2014 | Cadillac | Escalade ESV PAB (B).
10 | 2010-2014 | Cadillac | Escalade ESV PAB (C).
10 | 2011-2013 | Cadillac | Escalade EXT PAB (B).
10 | 2010-2013 | Cadillac | Escalade EXT PAB (C).
10 | 2014-2014 | Cadillac | Escalade PAB (A).
10 | 2011-2014 | Cadillac | Escalade PAB (B).
10 | 2010-2014 | Cadillac | Escalade PAB (C).
10 | 2011-2013 | Chevrolet | Avalanche PAB (B).
10 | 2010-2013 | Chevrolet | Avalanche PAB (C).
10 | 2014-2014 | Chevrolet | Silverado HD PAB (A).
10 | 2011-2014 | Chevrolet | Silverado HD PAB (B).
10 | 2010-2014 | Chevrolet | Silverado HD PAB (C).
10 | 2011-2013 | Chevrolet | Silverado LD PAB (B).
10 | 2010-2013 | Chevrolet | Silverado LD PAB (C).
10 | 2014-2014 | Chevrolet | Suburban PAB (A).
10 | 2011-2014 | Chevrolet | Suburban PAB (B).
10 | 2010-2014 | Chevrolet | Suburban PAB (C).
10 | 2014-2014 | Chevrolet | Tahoe PAB (A).
10 | 2011-2014 | Chevrolet | Tahoe PAB (B).
10 | 2010-2014 | Chevrolet | Tahoe PAB (C).
10 | 2014-2015 | Chrysler | 300 PAB (A).
10 | 2011-2015 | Chrysler | 300 PAB (B).
10 | 2010-2015 | Chrysler | 300 PAB (C).
10 | 2014-2014 | Dodge | Challenger PAB (A).
10 | 2011-2014 | Dodge | Challenger PAB (B).
10 | 2010-2014 | Dodge | Challenger PAB (C).
10 | 2014-2015 | Dodge | Charger PAB (A).
10 | 2011-2015 | Dodge | Charger PAB (B).
10 | 2010-2015 | Dodge | Charger PAB (C).
10 | 2011-2011 | Dodge | Dakota PAB (B).
10 | 2010-2011 | Dodge | Dakota PAB (C).
10 | 2010-2010 | Dodge | Ram 3500 Cab Chassis PAB (C).
10 | 2010-2010 | Dodge | Ram 4500/5500 Cab Chassis PAB (C).
10 | 2014-2015 | Ferrari | 458 Italia PAB (A).
10 | 2014-2015 | Ferrari | 458 Italia PAB (B).
10 | 2014-2015 | Ferrari | 458 Italia PAB (C).
10 | 2015-2015 | Ferrari | 458 Speciale A PAB (A).
10 | 2015-2015 | Ferrari | 458 Speciale A PAB (B).
10 | 2015-2015 | Ferrari | 458 Speciale A PAB (C).
10 | 2014-2015 | Ferrari | 458 Speciale PAB (A).
10 | 2014-2015 | Ferrari | 458 Speciale PAB (B).
10 | 2014-2015 | Ferrari | 458 Speciale PAB (C).
10 | 2014-2015 | Ferrari | 458 Spider PAB (A).
10 | 2014-2015 | Ferrari | 458 Spider PAB (B).
10 | 2014-2015 | Ferrari | 458 Spider PAB (C).
10 | 2016-2017 | Ferrari | 488 GTB PAB (A).
10 | 2016-2017 | Ferrari | 488 GTB PAB (B).
10 | 2016-2017 | Ferrari | 488 GTB PAB (C).
10 | 2016-2017 | Ferrari | 488 Spider PAB (A).
10 | 2016-2017 | Ferrari | 488 Spider PAB (B).
10 | 2016-2017 | Ferrari | 488 Spider PAB (C).
10 | 2014-2014 | Ferrari | California PAB (A).
10 | 2014-2014 | Ferrari | California PAB (B).
10 | 2014-2014 | Ferrari | California PAB (C).
10 | 2015-2017 | Ferrari | California T PAB (A).
10 | 2015-2017 | Ferrari | California T PAB (B).
10 | 2015-2017 | Ferrari | California T PAB (C).
10 | 2014-2017 | Ferrari | F12 PAB (A).
10 | 2014-2017 | Ferrari | F12 PAB (B).
10 | 2014-2017 | Ferrari | F12 PAB (C).
10 | 2016-2017 | Ferrari | F12 tdf PAB (A).
10 | 2016-2017 | Ferrari | F12 tdf PAB (B).
10 | 2016-2017 | Ferrari | F12 tdf PAB (C).
10 | 2016-2016 | Ferrari | F60 PAB (A).
10 | 2016-2016 | Ferrari | F60 PAB (B).
10 | 2016-2016 | Ferrari | F60 PAB (C).
10 | 2014-2016 | Ferrari | FF PAB (A).
10 | 2014-2016 | Ferrari | FF PAB (B).
10 | 2014-2016 | Ferrari | FF PAB (C).
10 | 2017-2017 | Ferrari | GTC4Lusso PAB (A).
10 | 2017-2017 | Ferrari | GTC4Lusso PAB (B).
10 | 2017-2017 | Ferrari | GTC4Lusso PAB (C).
10 | 2012-2012 | Fisker | Karma PAB (B).
10 | 2012-2012 | Fisker | Karma PAB (C).
10 | 2010-2010 | Ford | Edge PAB (C).
10 | 2011-2012 | Ford | Fusion PAB (B).
10 | 2010-2012 | Ford | Fusion PAB (C).
10 | 2014-2014 | Ford | Mustang PAB (A).
10 | 2011-2014 | Ford | Mustang PAB (B).
10 | 2010-2014 | Ford | Mustang PAB (C).
10 | 2011-2011 | Ford | Ranger PAB (B).
10 | 2010-2011 | Ford | Ranger PAB (C).
10 | 2015-2017 | Freightliner | Sprinter DAB (A).
10 | 2015-2017 | Freightliner | Sprinter DAB (B).
10 | 2015-2017 | Freightliner | Sprinter DAB (C).
10 | 2011-2011 | Freightliner | Sprinter PAB (B).
10 | 2010-2011 | Freightliner | Sprinter PAB (C).
10 | 2014-2014 | GMC | Sierra HD PAB (A).
10 | 2011-2014 | GMC | Sierra HD PAB (B).
10 | 2010-2014 | GMC | Sierra HD PAB (C).
10 | 2011-2013 | GMC | Sierra LD PAB (B).
10 | 2010-2013 | GMC | Sierra LD PAB (C).
10 | 2014-2014 | GMC | Yukon PAB (A).
10 | 2011-2014 | GMC | Yukon PAB (B).
10 | 2010-2014 | GMC | Yukon PAB (C).
10 | 2014-2014 | GMC | Yukon XL PAB (A).
10 | 2011-2014 | GMC | Yukon XL PAB (B).
10 | 2010-2014 | GMC | Yukon XL PAB (C).
10 | 2011-2012 | Honda | ACCORD PAB (B).
10 | 2010-2012 | Honda | ACCORD PAB (C).
10 | 2011-2011 | Honda | CIVIC HYBRID PAB (B).
10 | 2010-2011 | Honda | CIVIC HYBRID PAB (C).
10 | 2011-2011 | Honda | CIVIC NGV PAB (B).
10 | 2010-2011 | Honda | CIVIC NGV PAB (C).
10 | 2011-2011 | Honda | CIVIC PAB (B).
10 | 2010-2011 | Honda | CIVIC PAB (C).
10 | 2014-2015 | Honda | CROSSTOUR PAB (A).
10 | 2011-2015 | Honda | CROSSTOUR PAB (B).
10 | 2010-2015 | Honda | CROSSTOUR PAB (C).
10 | 2011-2011 | Honda | CR-V PAB (B).
10 | 2010-2011 | Honda | CR-V PAB (C).
10 | 2011-2011 | Honda | ELEMENT PAB (B).
10 | 2010-2011 | Honda | ELEMENT PAB (C).
10 | 2014-2014 | Honda | FCX CLARITY PAB (A).
10 | 2014-2014 | Honda | FIT EV PAB (A).
10 | 2011-2013 | Honda | FIT PAB (B).
10 | 2010-2013 | Honda | FIT PAB (C).
10 | 2014-2014 | Honda | INSIGHT PAB (A).
10 | 2011-2014 | Honda | INSIGHT PAB (B).
10 | 2010-2014 | Honda | INSIGHT PAB (C).
10 | 2014-2015 | Honda | PILOT PAB (A).
10 | 2011-2015 | Honda | PILOT PAB (B).
10 | 2010-2015 | Honda | PILOT PAB (C).
10 | 2014-2014 | Honda | RIDGELINE PAB (A).
10 | 2011-2014 | Honda | RIDGELINE PAB (B).
10 | 2010-2014 | Honda | RIDGELINE PAB (C).
10 | 2010-2010 | Infiniti | M PAB (C).
10 | 2014-2015 | Jaguar | XF PAB (A).
10 | 2011-2015 | Jaguar | XF PAB (B).
10 | 2010-2015 | Jaguar | XF PAB (C).
10 | 2014-2016 | Jeep | Wrangler PAB (A).
10 | 2011-2016 | Jeep | Wrangler PAB (B).
10 | 2010-2016 | Jeep | Wrangler PAB (C).
10 | 2011-2012 | Land Rover | Range Rover PAB (B).
10 | 2010-2012 | Land Rover | Range Rover PAB (C).
10 | 2011-2012 | Lexus | ES350 PAB (B).
10 | 2010-2012 | Lexus | ES350 PAB (C).
10 | 2014-2017 | Lexus | GX460 PAB (A).
10 | 2011-2017 | Lexus | GX460 PAB (B).
10 | 2010-2017 | Lexus | GX460 PAB (C).
10 | 2011-2013 | Lexus | IS250/350 PAB (B).
10 | 2010-2013 | Lexus | IS250/350 PAB (C).
10 | 2014-2015 | Lexus | IS250C/350C PAB (A).
10 | 2011-2015 | Lexus | IS250C/350C PAB (B).
10 | 2010-2015 | Lexus | IS250C/350C PAB (C).
10 | 2014-2014 | Lexus | IS-F PAB (A).
10 | 2011-2014 | Lexus | IS-F PAB (B).
10 | 2010-2014 | Lexus | IS-F PAB (C).
10 | 2012-2012 | Lexus | LFA PAB (B).
10 | 2012-2012 | Lexus | LFA PAB (C).
10 | 2010-2010 | Lincoln | MKX PAB (C).
10 | 2011-2012 | Lincoln | Zephyr/MKZ PAB (B).
10 | 2010-2012 | Lincoln | Zephyr/MKZ PAB (C).
10 | 2011-2012 | Mazda | CX7 PAB (B).
10 | 2010-2012 | Mazda | CX7 PAB (C).
10 | 2014-2015 | Mazda | CX9 PAB (A).
10 | 2011-2015 | Mazda | CX9 PAB (B).
10 | 2010-2015 | Mazda | CX9 PAB (C).
10 | 2011-2011 | Mazda | Mazda6 PAB (B).
10 | 2010-2011 | Mazda | Mazda6 PAB (C).
10 | 2011-2011 | Mazda | RX8 PAB (B).
10 | 2010-2011 | Mazda | RX8 PAB (C).
10 | 2016-2017 | McLaren | 570 PAB (A).
10 | 2016-2017 | McLaren | 570 PAB (B).
10 | 2016-2017 | McLaren | 570 PAB (C).
10 | 2015-2016 | McLaren | 650S PAB (A).
10 | 2015-2016 | McLaren | 650S PAB (B).
10 | 2015-2016 | McLaren | 650S PAB (C).
10 | 2016-2016 | McLaren | 675LT PAB (A).
10 | 2016-2016 | McLaren | 675LT PAB (B).
10 | 2016-2016 | McLaren | 675LT PAB (C).
10 | 2014-2014 | McLaren | MP4-12C PAB (A).
10 | 2014-2014 | McLaren | MP4-12C PAB (B).
10 | 2014-2014 | McLaren | MP4-12C PAB (C).
10 | 2014-2015 | McLaren | P1TM PAB (A).
10 | 2014-2015 | McLaren | P1TM PAB (B).
10 | 2014-2015 | McLaren | P1TM PAB (C).
10 | 2014-2014 | Mercedes-Benz | C-Class PAB (A).
10 | 2011-2014 | Mercedes-Benz | C-Class PAB (B).
10 | 2010-2014 | Mercedes-Benz | C-Class PAB (C).
10 | 2014-2017 | Mercedes-Benz | E-Class Cabrio PAB (A).
10 | 2011-2017 | Mercedes-Benz | E-Class Cabrio PAB (B).
10 | 2011-2017 | Mercedes-Benz | E-Class Cabrio PAB (C).
10 | 2014-2017 | Mercedes-Benz | E-Class Coupe PAB (A).
10 | 2011-2017 | Mercedes-Benz | E-Class Coupe PAB (B).
10 | 2010-2017 | Mercedes-Benz | E-Class Coupe PAB (C).
10 | 2014-2015 | Mercedes-Benz | GLK Class PAB (A).
10 | 2011-2015 | Mercedes-Benz | GLK Class PAB (B).
10 | 2010-2015 | Mercedes-Benz | GLK Class PAB (C).
10 | 2015-2015 | Mercedes-Benz | SLS-Class DAB (A).
10 | 2015-2015 | Mercedes-Benz | SLS-Class DAB (B).
10 | 2015-2015 | Mercedes-Benz | SLS-Class DAB (C).
10 | 2014-2015 | Mercedes-Benz | SLS-Class PAB (A).
10 | 2011-2015 | Mercedes-Benz | SLS-Class PAB (B).
10 | 2011-2015 | Mercedes-Benz | SLS-Class PAB (C).
10 | 2015-2017 | Mercedes-Benz | Sprinter DAB (A).
10 | 2015-2017 | Mercedes-Benz | Sprinter DAB (B).
10 | 2015-2017 | Mercedes-Benz | Sprinter DAB (C).
10 | 2011-2011 | Mercedes-Benz | Sprinter PAB (B).
10 | 2010-2011 | Mercedes-Benz | Sprinter PAB (C).
10 | 2011-2011 | Mercury | Milan PAB (B).
10 | 2010-2011 | Mercury | Milan PAB (C).
10 | 2016-2017 | Mitsubishi | i-MiEV PAB (A).
10 | 2016-2017 | Mitsubishi | i-MiEV PAB (B).
10 | 2016-2017 | Mitsubishi | i-MiEV PAB (C).
10 | 2011-2012 | Nissan | Versa PAB (B).
10 | 2010-2012 | Nissan | Versa PAB (C).
10 | 2010-2010 | Pontiac | Vibe PAB (C).
10 | 2014-2015 | Scion | xB PAB (A).
10 | 2011-2015 | Scion | xB PAB (B).
10 | 2010-2015 | Scion | xB PAB (C).
10 | 2011-2013 | Subaru | Forester PAB (B).
10 | 2010-2013 | Subaru | Forester PAB (C).
10 | 2011-2011 | Subaru | Impreza PAB (B).
10 | 2010-2011 | Subaru | Impreza PAB (C).
10 | 2014-2014 | Subaru | Legacy PAB (A).
10 | 2011-2014 | Subaru | Legacy PAB (B).
10 | 2010-2014 | Subaru | Legacy PAB (C).
10 | 2014-2014 | Subaru | Outback PAB (A).
10 | 2011-2014 | Subaru | Outback PAB (B).
10 | 2010-2014 | Subaru | Outback PAB (C).
10 | 2014-2014 | Subaru | Tribeca PAB (A).
10 | 2011-2014 | Subaru | Tribeca PAB (B).
10 | 2010-2014 | Subaru | Tribeca PAB (C).
10 | 2014-2014 | Subaru | WRX/STI PAB (A).
10 | 2012-2014 | Subaru | WRX/STI PAB (B).
10 | 2012-2014 | Subaru | WRX/STI PAB (C).
10 | 2014-2016 | Tesla | Model S PAB (A).
10 | 2012-2016 | Tesla | Model S PAB (B).
10 | 2012-2016 | Tesla | Model S PAB (C).
10 | 2014-2016 | Toyota | 4Runner PAB (A).
10 | 2011-2016 | Toyota | 4Runner PAB (B).
10 | 2010-2016 | Toyota | 4Runner PAB (C).
10 | 2011-2013 | Toyota | Corolla PAB (B).
10 | 2010-2013 | Toyota | Corolla PAB (C).
10 | 2011-2013 | Toyota | Matrix PAB (B).
10 | 2010-2013 | Toyota | Matrix PAB (C).
10 | 2014-2014 | Toyota | Sienna PAB (A).
10 | 2011-2014 | Toyota | Sienna PAB (B).
10 | 2011-2014 | Toyota | Sienna PAB (C).
10 | 2011-2011 | Toyota | Yaris (Hatch Back) PAB (B).
10 | 2010-2011 | Toyota | Yaris (Hatch Back) PAB (C).
10 | 2011-2012 | Toyota | Yaris (Sedan) PAB (B).
10 | 2010-2012 | Toyota | Yaris (Sedan) PAB (C).
10 | 2016-2017 | Volkswagen | CC DAB (A).
10 | 2016-2017 | Volkswagen | CC DAB (A).
10 | 2016-2017 | Volkswagen | CC DAB (A).
10 | 2016-2017 | Volkswagen | CC DAB (B).
10 | 2016-2017 | Volkswagen | CC DAB (B).
10 | 2016-2017 | Volkswagen | CC DAB (B).
10 | 2016-2017 | Volkswagen | CC DAB (C).
10 | 2016-2017 | Volkswagen | CC DAB (C).
10 | 2016-2017 | Volkswagen | CC DAB (C).

End of Annex

[FR Doc. 2016-31065 Filed 12-23-16; 8:45 am]

BILLING CODE 4910-59-P